DEPARTMENT OF HOUSING AND URBAN DEVELOPMENT

[Docket No. FR-4767-N-03]

Notice of Regulatory Waiver Requests Granted for the Third Quarter of Calendar Year 2002

AGENCY: Office of the Secretary, HUD.

ACTION: Public notice of the granting of regulatory waivers from July 1, 2002, through September 30, 2002.

SUMMARY: Section 106 of the Department of Housing and Urban Development Reform Act of 1989 (the HUD Reform Act) requires HUD to publish quarterly Federal Register notices of all regulatory waivers that HUD has approved. Each notice must cover the quarterly period since the most recent Federal Register notice. The purpose of this notice is to comply with the requirements of section 106 of the HUD Reform Act. This notice contains a list of regulatory waivers granted by HUD during the quarter beginning on July 1, 2002, and ending on September 30, 2002.

FOR FURTHER INFORMATION CONTACT: For general information about this notice, contact Aaron Santa Anna, Assistant General Counsel for Regulations, Room 10276, Department of Housing and Urban Development, 451 Seventh Street, SW., Washington, DC 20410-0500; telephone (202) 708-3055 (this is not a toll-free number). Hearing- or speech-impaired persons may access this number via TTY by calling the toll-free Federal Information Relay Service at 1-800-877-8391.

For information concerning a particular waiver action for which public notice is provided in this document, contact the person whose name and address follow the description of the waiver granted in the accompanying list of waiver-grant actions.

SUPPLEMENTARY INFORMATION: As part of the HUD Reform Act, the Congress adopted, at HUD's request, legislation to limit and control the granting of regulatory waivers by HUD. Section 106 of the HUD Reform Act added a new section 7(q) to the Department of Housing and Urban Development Act (2 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived, and the designation of the provision;

c. Indicate the name and title of the person who granted the waiver request;

d. Describe briefly the grounds for approval of the request; and

e. State how additional information about a particular waiver-grant action may be obtained.

Section 106 of the HUD Reform Act also contains requirements applicable to waivers of HUD handbook provisions that are not relevant to the purpose of this notice.

This notice follows procedures provided in HUD's Statement of Policy on Waiver of Regulations and Directives issued on April 22, 1991 (56 FR 16337). This notice covers HUD's waiver-grant activity from July 1, 2002, through September 30, 2002. For ease of reference, the waivers granted by HUD are listed by HUD program office (for example, the Office of Community Planning and Development, the Office of Housing, the Office of Public and Indian Housing, etc.). Within each program office grouping, the waivers are listed sequentially by the section of title 24 being waived. For example, a waiver-grant action involving the waiver of a provision in 24 CFR part 58 would come before a waiver of a provision in 24 CFR part 570.

Where more than one regulatory provision is involved in the grant of a particular waiver request, the action is listed under the section number of the first regulatory requirement that appears in title 24 of the Code of Federal Regulations and that is being waived as part of the waiver-grant action. For example, a waiver of both § 58.73 and § 58.74 would appear sequentially in the listing under § 58.73.

Waiver-grant actions involving the same initial regulatory citation are in time sequence beginning with the earliest-dated waiver-grant action.

Should HUD receive additional reports of waiver actions taken during the period covered by this report before the next report is published, the next updated report will include these earlier actions, as well as those that occurred during October 1, 2002, through December 31, 2002.

Accordingly, information about approved waiver requests pertaining to HUD regulations is provided in the Appendix that follows this notice.

Dated: January 16, 2003.
Alphonso Jackson,
Deputy Secretary.

Appendix

Listing of Waivers of Regulatory Requirements Granted by Offices of the Department of Housing and Urban Development July 1, 2002, through September 30, 2002

Note to Reader: More information about the granting of these waivers, including a copy of the waiver request and approval, may be obtained by contacting the person whose name is listed as the contact person directly after each set of waivers granted.

The regulatory waivers granted appear in the following order:

I. Regulatory waivers granted by the Office of Community Planning and Development.

II. Regulatory waivers granted by the Office of Housing.

III. Regulatory waivers granted by the Office of Public and Indian Housing.

I. Regulatory Waivers Granted by the Office of Community Planning and Development

For further information about the following waiver actions, please see the name of the contact person who immediately follows the description of the waiver granted.

• Regulation: 24 CFR 91.225(b)(4)(ii).

Project/Activity: The city of Abilene, Texas, requested a waiver of the regulations to change its selected period of certification to comply with the requirement that a least 70 percent of its Community Development Block Grant (CDBG) funds expended during that period are for activities that benefit low- and moderate-income persons.

Nature of Requirement: Section 91.225(b)(4)(ii) provides that each CDBG grantee must certify that it will achieve the primary objective of benefiting low- and moderate-income persons over a period of one, two, or three consecutive program years selected by the grantee.

Granted by: Roy A. Bernardi, Assistant Secretary for Community Planning and Development.

Date Granted: September 27, 2002.

Reasons Waived: The city of Abilene requested the waiver in order to undertake a major downtown revitalization program in 2002, the renovation of the Wooten Hotel. The developer was unable to attract investors and secure loans for redevelopment of the Wooten as a hotel that would have met the low- and moderate-income national objective through job creation; however, the project will be able to meet a national objective on the basis of elimination of slum or blight. Because the amount of Section 108 funding needed for this project is almost equivalent to the city's annual entitlement amount, the city is unable to undertake this needed project and meet the overall benefit test in the currently identified certification period (2000-2002). By shortening the existing certification period to two years, the city will be able to meet the primary benefit test for two years and then have three years to comply with this test for 2002-2005. The Department has determined that this waiver is appropriate because the city has consistently exceeded the overall benefit requirement and failure to grant the waiver would prohibit the city from undertaking this worthwhile development project. Further, the city will be able to meet the overall benefit test in both the shortened period and the longer period.

Contact: Cornelia Robertson-Terry, Office of Community Planning and Development, Room 7152, Department of Housing and Urban Development, 451 Seventh Street, SW., Washington, DC 20410; telephone: (202) 708-2565, extension 4556.

• Regulation: 24 CFR 91.520(a).

Project/Activity: The city of Trenton, New Jersey, requested a waiver of the submission deadline for the city's 2001 program year Consolidated Annual Performance and Evaluation Report (CAPER).

Nature of Requirement: Section 91.520(a) requires each grantee to submit a performance report to HUD within 90 days after the close of the grantee's program year.

Granted by: Roy A. Bernardi, Assistant Secretary for Community Planning and Development.

Date Granted: August 28, 2002.

Reasons Waived: The city requested a two-month extension because the city experienced the departure of key staff and these departures resulted in a delay in the processing time. While HUD desires timely reports, the Department is interested in ensuring that the reports prepared by grantees are complete and accurate. The performance reports provide local residents with information on the city's accomplishments during the year, and the report data goes into HUD's national database that is used for various reporting purposes, including the annual report to Congress.

Contact: Cornelia Robertson-Terry, Office of Community Planning and Development, Room 7152, Department of Housing and Urban Development, 451 Seventh Street, SW., Washington, DC 20410; telephone: (202) 708-2565, extension 4556.

• Regulation: 24 CFR 91.520(a).

Project/Activity: The city of Pittsburg, California, requested a waiver of the submission deadline for the city's 2001 program year CAPER.

Nature of Requirement: 24 CFR 91.520(a) requires each grantee to submit a performance report to HUD within 90 days after the close of the grantee's program year.

Granted by: Roy A. Bernardi, Assistant Secretary for Community Planning and Development.

Date Granted: September 25, 2002.

Reasons Waived: The city requested a 45-day extension because the city's community development department recently relocated to a new building and is currently not able to access HUD's Integrated Disbursement and Information System, which contains the data used to prepare the CAPER. As a result of the office relocation and recent staff changes, the city was unable to submit the report before the deadline. While HUD desires timely reports, the Department is interested in ensuring that the reports prepared by grantees are complete and accurate. The performance reports provide local residents with information on the city's accomplishments during the year, and the report data goes into HUD's national database that is used for various reporting purposes, including the annual report to Congress.

Contact: Cornelia Robertson-Terry, Office of Community Planning and Development, Room 7152, Department of Housing and Urban Development, 451 Seventh Street, SW., Washington, DC 20410; telephone: (202) 708-2565, extension 4556.

• Regulation: 24 CFR 91.520(a).

Project/Activity: The state of Virginia requested a waiver of the submission date for its 2001 CAPER program year.

Nature of Requirement: Section 91.520(a) requires each grantee to submit a performance report to HUD within 90 days after the close of the grantee's program year. The CAPER for the state of Virginia is due to HUD by September 28, 2002.

Granted by: Roy A. Bernardi, Assistant Secretary for Community Planning and Development.

Date Granted: September 25, 2002.

Reasons Waived: The state requested an extension of its submission deadline due to reevaluations of the state's programs to meet the Governor's new fiscal priorities. Failure to grant the request would prevent the state from submitting a comprehensive report of its 2001 program. While HUD desires timely reports, the Department is also interested in ensuring that the performance reports prepared by grantees are complete and accurate.

Contact: Cornelia Robertson-Terry, Office of Community Planning and Development, Room 7152, Department of Housing and Urban Development, 451 Seventh Street, SW., Washington, DC 20410; telephone: (202) 708-2565, extension 4556.

• Regulation: 24 CFR 91.520(a).

Project/Activity: The city and county of Honolulu, the state of Hawaii, the county of Kauai, the county of Hawaii, and the county of Maui requested a waiver of the submission date for submitting their 2001 program year CAPERs. All of these CAPERs are due September 30, 2002.

Nature of Requirement: Section 91.520(a) requires each grantee to submit a performance report to HUD within 90 days after the close of the grantee's program year.

Granted by: Roy A. Bernardi, Assistant Secretary for Community Planning and Development.

Date Granted: September 26, 2002.

Reasons Waived: The grantees are requesting extensions in order to allow the working group time to improve the format of the CAPER submission to make it more understandable for citizens and HUD. The grantees will be unable to submit comprehensive reports of their 2001 program year if the extensions are not granted. While HUD desires timely reports, the Department is also interested in ensuring that the performance reports prepared by grantees are complete and accurate. The grantees received an extension to December 15, 2002, for submission CAPERs.

Contact: Cornelia Robertson-Terry, Office of Community Planning and Development, Room 7152, Department of Housing and Urban Development, 451 Seventh Street, SW., Washington, DC 20410; telephone: (202) 708-2565, extension 4556.

• Regulation: 24 CFR 91.520(a).

Project/Activity: The city of Baltimore, Maryland, requested a waiver of the submission deadline for the city's 2001 program year CAPER.

Nature of Requirement: Section 91.520(a) requires each grantee to submit a performance report to HUD within 90 days after the close of the grantee's program year.

Granted by: Roy A. Bernardi, Assistant Secretary for Community Planning and Development.

Date Granted: September 26, 2002.

Reasons Waived: The city of Baltimore requested an extension of the CAPER submission to allow additional time to properly report its Section 108 program beneficiary information. While HUD desires timely reports, the Department is interested in ensuring that the reports prepared by grantees are complete and accurate. The performance reports provide local residents with information on the city's accomplishments during the year, and the report data goes into HUD's national database that is used for various reporting purposes, including the annual report to Congress.

Contact: Cornelia Robertson-Terry, Office of Community Planning and Development, Room 7152, Department of Housing and Urban Development, 451 Seventh Street, SW., Washington, DC 20410; telephone: (202) 708-2565, extension 4556.

• Regulation: 24 CFR 91.520(a).

Project/Activity: The city of Hopewell, Virginia, requested a waiver of the submission deadline for the city's 2001 program year CAPER.

Nature of Requirement: Section 91.520(a) requires each grantee to submit a performance report to HUD within 90 days after the close of the grantee's program year.

Granted by: Roy A. Bernardi, Assistant Secretary for Community Planning and Development.

Date Granted: September 26, 2002.

Reasons Waived: The city of Hopewell requested an extension to allow sufficient time for citizens to comment and for the city to consider any comments received and respond, if appropriate. While HUD desires timely reports, the Department is interested in ensuring that the reports prepared by grantees are complete and accurate and involves citizen comments. The performance reports provide local residents with information on the city's accomplishments during the year, and the report data goes into HUD's national database that is used for various reporting purposes, including the annual report to Congress.

Contact: Cornelia Robertson-Terry, Office of Community Planning and Development, Room 7152, Department of Housing and Urban Development, 451 Seventh Street, SW., Washington, DC 20410; telephone: (202) 708-2565, extension 4556.

• Regulation: 24 CFR 91.520(a).

Project/Activity: Chesterfield County, Virginia, requested a waiver of the submission deadline for the county's 2001 program year CAPER.

Nature of Requirement: Section 91.520(a) requires each grantee to submit a performance report to HUD within 90 days after the close of the grantee's program year.

Granted by: Roy A. Bernardi, Assistant Secretary for Community Planning and Development.

Date Granted: September 26, 2002

Reasons Waived: The county requested an extension because the staff member normally responsible for compiling the report had to report for military duty on September 16, 2002. Although the staff member is expected to return on September 30, 2002, her absence will delay the report and will not allow the county to submit the report before the deadline. While HUD desires timely reports, the Department is interested in ensuring that the reports prepared by grantees are complete and accurate. The performance reports provide local residents with information on the county's accomplishments during the year, and the report data goes into HUD's national database that is used for various reporting purposes, including the annual report to Congress.

Contact: Cornelia Robertson-Terry, Office of Community Planning and Development, Room 7152, Department of Housing and Urban Development, 451 Seventh Street, SW., Washington, DC 20410; telephone: (202) 708-2565, extension 4556.

• Regulation: 24 CFR 91.520(a).

Project/Activity: The city of Erie, Pennsylvania, requested a waiver of the submission deadline for the city's 2001 program year CAPER.

Nature of Requirement: Section 91.520(a) requires each grantee to submit a performance report to HUD within 90 days after the close of the grantee's program year.

Granted by: Roy A. Bernardi, Assistant Secretary for Community Planning and Development.

Date Granted: September 27, 2002.

Reasons Waived: The city requested a 15-day extension to revise the data regarding its efforts to affirmatively further fair housing. In addition to this information, the extension will allow the city to collect housing performance data from one of its primary recipients. While HUD desires timely reports, the Department is interested in ensuring that the reports prepared by grantees are complete and accurate. The performance reports provide local residents with information on the city's accomplishments during the year, and the report data goes into HUD's national database that is used for various reporting purposes, including the annual report to Congress.

Contact: Cornelia Robertson-Terry, Office of Community Planning and Development, Room 7152, Department of Housing and Urban Development, 451 Seventh Street, SW., Washington, DC 20410; telephone: (202) 708-2565, extension 4556.

• Regulation: 24 CFR 91.520(a).

Project/Activity: The Dakota County Consortium, of the state of Minnesota, requested a waiver of the submission deadline for the county's 2001 program year CAPER. The extension is needed to allow Ramsey County, one of the consortium members, time to prepare its portion of the CAPER.

Nature of Requirement: Section 91.520(a) requires each grantee to submit a performance report to HUD within 90 days after the close of the grantee's program year.

Granted by: Roy A. Bernardi, Assistant Secretary for Community Planning and Development.

Date Granted: September 27, 2002.

Reasons Waived: The county requested a one-month extension because the staff person responsible for preparing Ramsey County's portion of the CAPER experienced a death in the family and left the state to attend to family matters. While HUD desires timely reports, the Department is interested in ensuring that the reports prepared by grantees are complete and accurate. The performance reports provide local residents with information on the county's accomplishments during the year, and the report data goes into HUD's national database that is used for various reporting purposes, including the annual report to Congress.

Contact: Cornelia Robertson-Terry, Office of Community Planning and Development, Room 7152, Department of Housing and Urban Development, 451 Seventh Street, SW., Washington, DC 20410; telephone: (202) 708-2565, extension 4556.

• Regulation: 24 CFR 92.500(d)(1)(C).

Project/Activity: The Municipality of Carolina, Puerto Rico, requested a waiver of its Fiscal Year 1996 HOME Investment Partnerships (HOME) expenditure deadline.

Nature of Requirement: Section 92.500(d)(1)(C) requires HUD to deobligate any funds in the United States Treasury account which are not expended within 5 years of the last day HUD notifies the participating jurisdiction of HUD's execution of the HOME Investment Partnership Agreement.

Granted by: Roy A. Bernardi, Assistant Secretary for Community Planning and Development.

Date Granted: July 30, 2002.

Reasons Waived: HUD found good cause for granting the waiver. The Municipality has made substantial progress in addressing the administrative and programmatic problems that have negatively affected the effective and timely use of its HOME funds. The 1996 expenditure was fully expended less than one month from the regulatory deadline.

Contact: Cornelia Robertson-Terry, Office of Community Planning and Development, Room 7152, Department of Housing and Urban Development, 451 Seventh Street, SW., Washington, DC 20410; telephone: (202) 708-2565, extension 4556.

• Regulation: 24 CFR 570.208(a)(3).

Project/Activity: Clark County, Washington, requested a waiver of the Community Development Block Grant (CDBG) regulations at 24 CFR 570.208(a)(3), which describe the criteria for assistance used to provide or improve housing to meet the national objective of benefit to low- and moderate-income households.

Nature of Requirement: Section 570.208(a)(3) establishes the criteria that housing activities must meet in order to meet the national objectives of benefit to low- and moderate-income households.

Granted by: Roy A. Bernardi, Assistant Secretary for Community Planning and Development.

Date Granted: July 3, 2002.

Reasons Waived: The methodology identified in the regulations for determining compliance is not required by statute. The Department determined that the county demonstrated good cause for requesting the waiver. This project significantly promotes the purposes of the Housing and Community Development Act and provides an income mix and economic opportunities in a redeveloping area. This project is a mixed-use building, including 160 housing units. Low- and moderate-income households will occupy one hundred and thirty-nine housing units. This represents 86 percent of the units and CDBG funds will constitute 14 percent of the total cost of the acquisition and 1.3 percent of the total development cost.

Contact: Cornelia Robertson-Terry, Office of Community Planning and Development, Room 7152, Department of Housing and Urban Development, 451 Seventh Street, SW., Washington, DC 20410; telephone: (202) 708-2565, extension 4556.

• Regulation: 24 CFR 570.208(a)(3).

Project/Activity: Dakota County, Minnesota, requested a waiver of the CDBG regulations, which describe the criteria for assistance used to provide or improve housing to meet the national objective of benefit to low- and moderate-income households.

Nature of Requirement: Section 570.208(a)(3) establishes the criteria that housing activities must meet in order to meet the national objectives of benefit to low- and moderate-income households.

Granted by: Roy A. Bernardi, Assistant Secretary for Community Planning and Development.

Date Granted: July 25, 2002.

Reasons Waived: Although Dakota County requested a waiver of 24 CFR 570.208(a)(4), the correct citation should have been 24 CFR 570.208(3). The methodology identified in the regulations for determining compliance is not required by statute. The Department determined that the county has demonstrated good cause for requesting the waiver. This project significantly promotes the purposes of the Housing and Community Development Act and provides for an income mix and economic opportunities in a redeveloping area. This mixed-use development will include 51 senior housing units and three commercial spaces. The waiver is granted with the understanding that low- and moderate-income households will occupy all of the housing units and CDBG funds constitute 22.1 percent of the total cost of the acquisition and 3.8 percent of the total development cost.

Contact: Cornelia Robertson-Terry, Office of Community Planning and Development, Room 7152, Department of Housing and Urban Development, 451 Seventh Street, SW., Washington, DC 20410; telephone: (202) 708-2565, extension 4556.

• Regulation: 24 CFR 882.805(d)(1)(ii)(B).

Project/Activity: The San Francisco, California Housing Authority requested a waiver of the subject section 8 Moderate Rehabilitation Single Room Occupancy (SRO) requirements.

Nature of Requirement: The applicable regulations for the SRO Moderate Rehabilitation program state that the cost of rehabilitation that may be included for the purpose of calculating the initial contract rent must not exceed the current per unit cost limitation that was established in the Federal Register, in this case $18,200, minus the cost of fire and safety improvements. Section 882.805(d)(1)(ii)(B) states that this amount may be multiplied by 2.4 in areas where the housing authority has demonstrated to HUD's satisfaction that the increase is reasonable to accommodate special local conditions, including high construction costs. In the case of San Francisco, this would allow a maximum rehabilitation cost of $43,680.

Granted by: Roy A. Bernardi, Assistant Secretary for Community Planning and Development.

Date Granted: September 25, 2002.

Reasons Waived: The final per unit rehabilitation cost for this project is projected to be $60,494, well above the maximum approvable cost. A waiver of the per unit cost limitation for this project was determined appropriate as the current Fair Market Rents (FMRs) are sufficient to support the debt service for the project and this housing will address a critical need in the city's Continuum of Care by housing homeless individuals. HUD determined that there was good cause for this waiver in view of the extremely high cost of construction in San Francisco and the difficulty in finding and acquiring suitable properties for the SRO program.

Contact: Cornelia Robertson-Terry, Office of Community Planning and Development, Room 7152, Department of Housing and Urban Development, 451 Seventh Street, SW., Washington, DC 20410; telephone: (202) 708-2565, extension 4556.

II. Regulatory Waivers Granted by the Office of Housing

For further information about the following waivers actions, please see the name of the contact person who immediately follows the description of the waiver granted.

• Regulation: 24 CFR 200.54(a).

Project/Activity: Sycamore Place Apartments, Ashland, TN; Project Number: 086-35276.

Nature of Requirement: Section 200.54(a) establishes the procedures for a pro-rata disbursement of the mortgagor's front money escrow funds and Federal Housing Administration (FHA) insured mortgage proceeds for the subject property.

Granted by: John C. Weicher, Assistant Secretary for Housing—Federal Housing Commissioner.

Date Granted: August 15, 2002.

Reason Waived: The regulation was waived since the front money escrow is so large, the insured proceeds would not be disbursed for several months, resulting in payment of extension fees to the investors who purchased the Government National Mortgage Association (GNMA) mortgage-backed securities. Providing a waiver of 24 CFR 200.54(a) permitted the Nashville Multifamily Program Center Hub to approve a pro-rata disbursement of front money and mortgage proceeds, thereby allowing the mortgagee not to pay GNMA extension fees.

Contact: Michael McCullough, Director, Office of Multifamily Development, Department of Housing and Urban Development, 451 Seventh Street, SW., Washington, DC 20410-7000; telephone: (202) 708-1142.

• Regulation: 24 CFR 200.54(a).

Project/Activity: Eagle Ridge Apartments, San Antonio, TX; Project Number: 115-35398.

Nature of Requirement: Section 200.54(a) establishes the procedures for a pro-rata disbursement of the mortgagor's front money escrow funds and Federal Housing Administration (FHA) insured mortgage proceeds for the subject property.

Granted by: John C. Weicher, Assistant Secretary for Housing—Federal Housing Commissioner.

Date Granted: August 20, 2002.

Reason Waived: The regulation was waived because the front money escrow is so large, the insured proceeds would not be disbursed for several months, resulting in payment of extension fees to the investors who purchased the GNMA mortgage-backed securities. Providing a waiver of 24 CFR 200.54(a) permitted the San Antonio Multifamily Program Center Hub to approve a pro-rata disbursement of front money and mortgage proceeds, thereby allowing the mortgagee not to pay GNMA extension fees.

Contact: Michael McCullough, Director, Office of Multifamily Development, Department of Housing and Urban Development, 451 Seventh Street, SW., Washington, DC 20410-7000; telephone: (202) 708-1142.

• Regulation: 24 CFR 200.54(a).

Project/Activity: Lauderdale Court Apartments, Memphis, TN, Project Number: 081-35225.

Nature of Requirement: Section 200.54(a) establishes the procedures for a pro-rata disbursement of the mortgagor's front money escrow funds and Federal Housing Administration (FHA) insured mortgage proceeds for the subject property.

Granted by: John C. Weicher, Assistant Secretary for Housing—Federal Housing Commissioner.

Date Granted: August 26, 2002.

Reason Waived: The regulation was waived because the front money escrow is so large, the insured proceeds would not be disbursed for several months, resulting in payment of extension fees to the investors who purchased the GNMA mortgage-backed securities. Providing a waiver of 24 CFR 200.54(a) permitted the Nashville Multifamily Program Center Hub to approve a pro-rata disbursement of front money and mortgage proceeds, thereby allowing the mortgagee not to pay GNMA extension fees.

Contact: Michael McCullough, Director, Office of Multifamily Development, Department of Housing and Urban Development, 451 Seventh Street, SW., Washington, DC 20410-7000; telephone: (202) 708-1142.

• Regulation: 24 CFR 200.54(a).

Project/Activity: Majestic Stove Lofts, St. Louis, MO; Project Number: 085-35454.

Nature of Requirement: Section 200.54(a) establishes the procedures for a pro-rata disbursement of the mortgagor's front money escrow funds and Federal Housing Administration (FHA) insured mortgage proceeds for the subject property.

Granted by: John C. Weicher, Assistant Secretary for Housing—Federal Housing Commissioner.

Date Granted: August 27, 2002.

Reason Waived: The regulation was waived because the front money escrow is so large, the insured proceeds would not be disbursed for several months, resulting in payment of extension fees to the investors who purchased the GNMA mortgage-backed securities. Providing a waiver of 24 CFR 200.54(a) permitted the Kansas City Multifamily Hub to approve a pro-rata disbursement of front money and mortgage proceeds, thereby allowing the mortgagee not to pay GNMA extension fees.

Contact: Michael McCullough, Director, Office of Multifamily Development, Department of Housing and Urban Development, 451 Seventh Street, SW., Washington, DC 20410-7000; telephone: (202) 708-1142.

• Regulation: 24 CFR 200.54(a).

Project/Activity: Park Avenue West Residences, Denver, CO; Project Number: 101-35557.

Nature of Requirement: Section 200.54(a) establishes the procedures for a pro-rata disbursement of the mortgagor's front money escrow funds and Federal Housing Administration (FHA) insured mortgage proceeds for the subject property.

Granted by: John C. Weicher, Assistant Secretary for Housing—Federal Housing Commissioner.

Date Granted: August 27, 2002.

Reason Waived: The regulation was waived because the front money escrow is so large, the insured proceeds would not be disbursed for several months, resulting in payment of extension fees to the investors who purchased the GNMA mortgage-backed securities. Providing a waiver of 24 CFR 200.54(a) permitted the Denver Multifamily Hub to approve a pro-rata disbursement of front money and mortgage proceeds, thereby allowing the mortgagee not to pay GNMA extension fees.

Contact: Michael McCullough, Director, Office of Multifamily Development, Department of Housing and Urban Development, 451 Seventh Street, SW., Washington, DC 20410-7000; telephone: (202) 708-1142.

• Regulation: 24 CFR 200.54(a).

Project/Activity: The Premiere Mill, Morganton, NC; Project Number: 053-32002.

Nature of Requirement: Section 200.54(a) establishes the procedures for a pro-rata disbursement of the mortgagor's front money escrow funds and Federal Housing Administration (FHA) insured mortgage proceeds for the subject property.

Granted by: John C. Weicher, Assistant Secretary for Housing—Federal Housing Commissioner.

Date Granted: August 27, 2002.

Reason Waived: The regulation was waived because the front money escrow is so large, the insured proceeds would not be disbursed for several months, resulting in payment of extension fees to the investors who purchased the GNMA mortgage-backed securities. Providing a waiver of 24 CFR 200.54(a) permitted the Greensboro Multifamily Hub to approve a pro-rata disbursement of front money and mortgage proceeds, thereby allowing the mortgagee not to pay GNMA extension fees.

Contact: Michael McCullough, Director, Office of Multifamily Development, Department of Housing and Urban Development, 451 Seventh Street, SW., Washington, DC 20410-7000; telephone: (202) 708-1142.

• Regulation: 24 CFR 200.54(a).

Project/Activity: Livingston Park Apartments, Cleveland, OH; Project Number: 042-35485.

Nature of Requirement: Section 200.54(a) establishes the procedures for a pro-rata disbursement of the mortgagor's front money escrow funds and Federal Housing Administration (FHA) insured mortgage proceeds for the subject property.

Granted by: John C. Weicher, Assistant Secretary for Housing—Federal Housing Commissioner.

Date Granted: September 16, 2002.

Reason Waived: The regulation was waived because the front money escrow is so large, the insured proceeds would not be disbursed for several months, resulting in payment of extension fees to the investors who purchased the GNMA mortgage-backed securities. Providing a waiver of 24 CFR 200.54(a) permitted the Cleveland Multifamily Program Center Hub to approve a pro-rata disbursement of front money and mortgage proceeds, thereby reducing the amount of negative arbitrage representing the difference between the investment rate on un-disbursed mortgage proceeds and the rate on the tax exempt bonds

Contact: Michael McCullough, Director, Office of Multifamily Development, Department of Housing and Urban Development, 451 Seventh Street, SW., Washington, DC 20410-7000; telephone: (202) 708-1142.

• Regulation: 24 CFR 200.54(a).

Project/Activity: Paul Brown Building, St. Louis, MO; Project Number: 085-32017.

Nature of Requirement: Section 200.54(a) establishes the procedures for a pro-rata disbursement of the mortgagor's front money escrow funds and Federal Housing Administration (FHA) insured mortgage proceeds for the subject property.

Granted by: John C. Weicher, Assistant Secretary for Housing—Federal Housing Commissioner.

Date Granted: September 16, 2002.

Reason Waived: The regulation was waived because the front money escrow is so large, the insured proceeds would not be disbursed for several months, resulting in the payment of extension fees to the investors who purchased the GNMA mortgage-backed securities. Providing a waiver of 24 CFR 200.54(a) permitted the Kansas City Multifamily Hub to approve a pro-rata disbursement of front money and mortgage proceeds, thereby allowing the mortgagee not to pay GNMA extension fees.

Contact: Michael McCullough, Director, Office of Multifamily Development, Department of Housing and Urban Development, 451 Seventh Street, SW., Washington, DC 20410-7000; telephone: (202) 708-1142.

• Regulation: 24 CFR 200.54(a).

Project/Activity: Laurel House Apartments, Nashville, TN; Project Number: 086-32005.

Nature of Requirement: Section 200.54(a) establishes the procedures for a pro-rata disbursement of the mortgagor's front money escrow funds and Federal Housing Administration (FHA) insured mortgage proceeds for the subject property.

Granted by: John C. Weicher, Assistant Secretary for Housing—Federal Housing Commissioner.

Date Granted: September 27, 2002.

Reason Waived: The regulation was waived because the front money escrow is so large, the insured proceeds would not be disbursed for several months after initial endorsement, resulting in payment of extension fees to the investors who purchased the GNMA mortgage-backed securities. Providing a waiver of 24 CFR 200.54(a) permitted the Nashville Multifamily Program Center to approve a pro-rata disbursement of front money and mortgage proceeds, thereby allowing the mortgagee not to pay GNMA extension fees.

Contact: Michael McCullough, Director, Office of Multifamily Development, Department of Housing and Urban Development, 451 Seventh Street, SW., Washington, DC 20410-7000; telephone: (202) 708-1142.

• Regulation: 24 CFR 202.3(c)(2)(iii).

Project/Activity: Credit Watch Termination Threshold; Washington, DC.

Nature of Requirement: Section 202.3(c)(2)(iii) establishes the threshold for placing a HUD/FHA approved lender on Credit Watch status when its default and claim rate exceeds the field office default and claim rate.

Granted by: John C. Weicher, Assistant Secretary for Housing—Federal Housing Commissioner.

Date Granted: August 8, 2002.

Reason Waived: Waiver of the regulation permits HUD/FHA to initially focus on those lenders originating the worst performing loans. The waiver allows for adjustment of the Credit Watch Termination threshold from a range of 150 percent to 200.9 percent of the HUD field office default and claim rate to a range of 201 percent to 300.9 percent of that rate. This waiver gradually reduces the threshold to the regulated 200 percent; the reduction occurs in quarterly increments through Fiscal Year 2003.

Contact: Joy L. Hadley, Director, Quality Assurance Division, U. S. Department of Housing and Urban Development, 451 Seventh Street, SW., Room B133-P3214, Washington, DC 20410-7000; telephone (202) 708-2830.

• Regulation: 24 CFR 236.725.

Project/Activity: Brookside Terrace, Newton, NJ; Project Number: 031-059NI.

Nature of Requirement: Section 236.725 requires that a rental assistance contract shall be limited to the term of the mortgage or 40 years from the date of the first payment made under the contract, whichever is the lesser.

Granted by: John C. Weicher, Assistant Secretary for Housing—Federal Housing Commissioner.

Date Granted: July 30, 2002.

Reason Waived: The non-insured Section 236 mortgage has exceeded its 20th year; therefore, the mortgagor could unilaterally prepay the mortgage and turn the project into a higher income, market rate property. The project will be maintained as an affordable housing resource to the maturity date of the non-insured Section 236 mortgage plus an additional 5 years, through the execution and recording of a “Decoupling Use Agreement.” This permits the rental assistance payments subsidy to continue until the maturity date of the original non-insured Section 236 mortgage.

Contact: Beverly J. Miller, Director, Office of Asset Management, Department of Housing and Urban Development, 451 Seventh Street, SW., Room 6160, Washington, DC 20410-7000; telephone (202) 708-3730.

• Regulation: 24 CFR 266.626.

Project/Activity: Legacy at Lowery, Denver, CO; Project Number: 101-98041.

Nature of Requirement: Section 266.626 specifies the procedures for notice of default (when a mortgagor fails to make any payment due under the mortgage) and filing an insurance claim.

Granted by: John C. Weicher, Assistant Secretary for Housing—Federal Housing Commissioner.

Date Granted: September 4, 2002.

Reason Waived: The Colorado Housing and Finance Authority (CHFA) requested a waiver for the subject project because the current occupancy level will not support the project. The project experienced substantial delays in lease up and the borrower was unable to commence amortization of the permanent loan. The borrower requested the CHFA to restructure the loan to provide a 2-year deferral of payments on the mortgage to provide the borrower time to reach a sufficient occupancy level. The CHFA believed it could accomplish that goal by filing a partial payment of claim (PPC). HUD encouraged the lender to accept a PPC in lieu of a full claim, which caused a delay in the lender's filing of the application within the required period. The time frame for filing an application for initial claim was extended.

Contact: Beverly J. Miller, Director, Office of Asset Management, Department of Housing and Urban Development, 451 Seventh Street, SW., Room 6160, Washington, DC 20410-7000; telephone (202) 708-3730.

• Regulations: 24 CFR 401.600.

Project/Activity: The following projects requested waivers to the 12-month limit at above-market rents (24 CFR 401.600):

FHA No. | Project Name | State
04535170 | Baughman Towers | WV
04635548 | Belle Vista Estates | OH
05235335 | Bishop's Garth Apartments | MD
01335105 | Brandegee Gardens | NY
04335257 | Calumet/Horizon | OH
07435170 | Castlewood Apartments | IA
05235292 | Center Place | MD
09335088 | Chair III | MT
06535318 | Cooks Avenue Apts | MS
10235134 | Eastwood Apartments | KS
06535271 | Elmwood Apartments | MS
04635522 | Glendale Apartments | OH
03435160 | Lansford Townhouses | PA
08735119 | McGhee Square | TN
10135276 | Newland Square | CO
07335352 | Princeton Creek Apartments | IN
06535323 | Rose Garden Apartments | MS
02435050 | Rumford Island Complex | ME
11535197 | Sandy Oaks Apartments | TX
10235153 | Silverwood Apartments | KS
06435226 | The Meadows Apartments | LA
04235324 | Warner House | OH
08735114 | Westgate Towers | TN
08235196 | White River Apartments | AR
13335044 | Winwood of Plainview | TX

Nature of Requirement: Section 401.600 requires that projects be marked down to market rents within 12 months of their first expiration date after January 1, 1998. The intent of this provision is to ensure timely processing of requests for restructuring, and that the properties will not default on their FHA insured mortgages during the restructuring process.

Granted by: John C. Weicher, Assistant Secretary for Housing—Federal Housing Commissioner.

Date Granted: August 12, 2002.

Reasons Waived: The projects listed above were not assigned to the participating administrative entities (PAEs) in a timely manner or for which the restructuring analysis was unavoidably delayed due to no fault of the owner.

Contact: Alberta Zinno, Office of Multifamily Housing Assistance Restructuring, Department of Housing and Urban Development, Portals Building, Suite 400, 1280 Maryland Avenue, SW., Washington, DC 20410; telephone (202) 708-0001.

• Regulations: 24 CFR 401.600.

Project/Activity: The following projects requested waivers to the 12-month limit at above-market rents (24 CFR 401.600):

FHA No. | Project Name | State
04335244 | Belle Village Apartments | OH
01257045 | Carbrook Apartments | NY
10935046 | Cheyenne Station Apartments | WY
06535316 | Church Garden Apartments | MS
01257146 | Concourse Flatiron Apartments | NY
01257373 | Concourse Green | NY
06635173 | Cypress Courts Apartments | FL
10235154 | Eastview Gardens | KS
04235327 | Fostoria Townhouses | OH
04235316 | Glenville Apartments | OH
04235357 | Greenview Gardens | OH
06535315 | Herdy Micou Homes | MS
04235333 | Hilltop Village | OH
01335102 | James F. Lettis Apartments | NY
10235159 | Knightsbridge Manor | KS
01335100 | Mechanicville Hsg. for the Elderly | NY
01257123 | Miramar Court | NY
08735124 | Norris Gardens | TN
04235295 | Oakwood Gardens | OH
11435346 | Royal Palms Apts | TX
08635139 | Shelby Hills Apartments | TN
07135422 | South of the Yards | IL
00035341 | Southern Hills Apartments | DC
10135265 | Southgate Commons Apartments | CO
07335420 | The Meadows Apartments | IN
10135259 | University Plaza | CO
08335342 | Valley View Apartments | KY

Nature of Requirement: Section 401.600 requires that projects be marked down to market rents within 12 months of their first expiration date after January 1, 1998. The intent of this provision is to ensure timely processing of requests for restructuring, and that the properties will not default on their FHA insured mortgages during the restructuring process.

Granted by: John C. Weicher, Assistant Secretary for Housing—Federal Housing Commissioner.

Date Granted: September 6, 2002.

Reasons Waived: The list of projects above were not assigned to the PAEs in a timely manner or for which the restructuring analysis was unavoidably delayed due to no fault of the owner.

Contact: Alberta Zinno, Office of Multifamily Housing Assistance Restructuring, Department of Housing and Urban Development, Portals Building, Suite 400, 1280 Maryland Avenue, SW., Washington, DC 20410; telephone (202) 708-0001.

• Regulation: 24 CFR 883.606(b).

Project/Activity: Minnesota Housing Finance Agency (the HFA) proposed refunding of its Series 1991 refunding bonds, which refinanced 27 Section 8 assisted projects. The financing terms proposed by the HFA and approved by HUD include an override above the bond yield, i.e., the project note rate is higher than the bond interest rate, as permitted by the Internal Revenue Code within a 150 basis points limitation. The HFA also collects the administrative fee in the projects included in this bond refunding.

Nature of Requirement: Section 883.606(b) prohibits the collection of an override and a Housing Assistance Payments Contract (HAPC) administration fee in connection with the same project.

Granted by: John C. Weicher, Assistant Secretary for Housing—Federal Housing Commissioner.

Date Granted: July 26, 2002.

Reason Waived: The Minnesota HFA allocates the override revenue to its affordable housing programs, including very low-income housing and activities in support of its Section 8 assisted inventory, including these 27 projects. Both override and HAPC administration fees are pledged to secure the bond issue until the bonds are paid off. HUD finds that the uses of the revenues are consistent with the objectives of the McKinney Act bond refunding program. HUD also finds it impractical to upset the security arrangements which are relied upon by rating agencies, bond underwriters, and investors in the marketing of the bonds and which assure favorable bond interest rates.

Contact: James B. Mitchell, Department of Housing and Urban Development, 451 Seventh Street, SW., Washington, DC 20410; telephone (202) 708-3944, extension 2612.

• Regulation: 24 CFR 891.100(d).

Project/Activity: Floyd County Apartments, Minnie, KY; Project Number: 083-EE070/KY36-S001-003.

Nature of Requirement: Section 891.100(d) prohibits amendment of the amount of approved capital advance funds prior to initial closing.

Granted by: John C. Weicher, Assistant Secretary for Housing—Federal Housing Commissioner.

Date Granted: July 10, 2002.

Reason Waived: The project is located in a floodplain that requires extensive engineered fills at the building pad and parking lot locations. The sponsor exhausted all efforts to obtain additional funding. The project is economically designed and is comparable in cost to similar projects developed in the area.

Contact: Willie Spearmon, Director, Office of Housing Assistance and Grant Administration, Department of Housing and Urban Development, 451 Seventh Street, SW., Washington, DC 20410; telephone: (202) 708-3000.

• Regulation: 24 CFR 891.100(d).

Project/Activity: The Lambs Farm of Green Oaks, Green Oaks, IL; Project Number: 071-HD115/Il06-Q991-005.

Nature of Requirement: Section 891.100(d) prohibits amendment of the amount of approved capital advance funds prior to initial closing.

Granted by: John C. Weicher, Assistant Secretary for Housing—Federal Housing Commissioner.

Date Granted: July 10, 2002.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410; telephone: (202) 708-3000.

• Regulation: 24 CFR 891.100(d).

Project/Activity: St. Timothy Manor, Cleveland, OH; Project Number: 042-EE111/OH12-S991-004.

Nature of Requirement: Section 891.100(d) prohibits amendment of the amount of approved capital advance funds prior to initial closing.

Granted by: John C. Weicher, Assistant Secretary for Housing—Federal Housing Commissioner.

Date Granted: July 12, 2002.

Reason Waived: The project is economically designed, is comparable to other similar projects in the area, and the sponsor exhausted all efforts to obtain additional funding from other sources.

Contact: Willie Spearmon, Director, Office of Housing Assistance and Grant Administration, Department of Housing and Urban Development, 451 Seventh Street, SW., Washington, DC 20410; telephone: (202) 708-3000.

• Regulation: 24 CFR 891.100(d).

Project/Activity: Pensdale Apartments, Philadelphia, PA; Project Number: 034-EE100/PA26-S991-009.

Nature of Requirement: Section 891.100(d) prohibits amendment of the amount of approved capital advance funds prior to initial closing.

Granted by: John C. Weicher, Assistant Secretary for Housing—Federal Housing Commissioner.

Date Granted: July 18, 2002.

Reason Waived: The project is economically designed, is comparable to other similar projects developed in the area, and the sponsor has exhausted all efforts to obtain additional funding from other sources.

Contact: Willie Spearmon, Director, Office of Housing Assistance and Grant Administration, Department of Housing and Urban Development, 451 Seventh Street, SW., Washington, DC 20410; telephone: (202) 708-3000.

• Regulation: 24 CFR 891.100(d).

Project/Activity: St. George Cathedral Manor, Philadelphia, PA; Project Number: 034-EE097/PA26-S991-006.

Nature of Requirement: Section 891.100(d) prohibits amendment of the amount of approved capital advance funds prior to initial closing.

Granted by: John C. Weicher, Assistant Secretary for Housing—Federal Housing Commissioner.

Date Granted: July 19, 2002.

Reason Waived: The project is economically designed, is comparable to other similar projects developed in the area, and the sponsor exhausted all efforts to obtain additional funding from other sources.

Contact: Willie Spearmon, Director, Office of Housing Assistance and Grant Administration, Department of Housing and Urban Development, 451 Seventh Street, SW., Washington, DC 20410; telephone: (202) 708-3000.

• Regulation: 24 CFR 891.100(d).

Project/Activity: Greater Allen Cathedral Senior Residence, Jamaica, Queens, NY; Project Number: 012-EE291/NY36-S001-006.

Nature of Requirement: Section 891.100(d) prohibits amendment of the amount of approved capital advance funds prior to initial closing.

Granted by: John C. Weicher, Assistant Secretary for Housing—Federal Housing Commissioner.

Date Granted: July 19, 2002.

Reason Waived: The project is economically designed, is comparable to other similar projects developed in the jurisdiction, the sponsor exhausted all efforts to obtain additional funding from other sources. In addition a determination that the costs are reasonable is based on an extensive design review of the project.

Contact: Willie Spearmon, Director, Office of Housing Assistance and Grant Administration, Department of Housing and Urban Development, 451 Seventh Street, SW., Washington, DC 20410; telephone: (202) 708-3000.

• Regulation: 24 CFR 891.100(d).

Project/Activity: Options Supported Housing Project VII, Central Islip, NY; Project Number: 012-HD096/NY36-Q001-001.

Nature of Requirement: Section 891.100(d) prohibits amendment of the amount of approved capital advance funds prior to initial closing.

Granted by: John C. Weicher, Assistant Secretary for Housing—Federal Housing Commissioner.

Date Granted: July 19, 2002.

Reason Waived: The project is economically designed, the project is comparable in cost to similar projects, and the sponsor cannot contribute any additional funds.

Contact: Willie Spearmon, Director, Office of Housing Assistance and Grant Administration, Department of Housing and Urban Development, 451 Seventh Street, SW., Washington, DC 20410; telephone: (202) 708-3000.

• Regulation: 24 CFR 891.100(d).

Project/Activity: Westminster Senior Housing, Los Angeles, CA; Project Number: 122-EE143/CA16-S981-012.

Nature of Requirement: Section 891.100(d) prohibits amendment of the amount of approved capital advance funds prior to initial closing.

Granted by: John C. Weicher, Assistant Secretary for Housing—Federal Housing Commissioner.

Date Granted: July 19, 2002.

Reason Waived: The project is economically designed and comparable to other similar projects in the area. The sponsor has exhausted all efforts to obtain additional funding from other sources, and the requested increase is due to the high cost of materials and labor in southern California.

Contact: Willie Spearmon, Director, Office of Housing Assistance and Grant Administration, Department of Housing and Urban Development, 451 Seventh Street, SW., Washington, DC 20410; telephone: (202) 708-3000.

• Regulation: 24 CFR 891.100(d).

Project/Activity: Hale Mahaolu Eono 5, Lahaina, HI; Project Number: 140-EE021/HI10-S0001-001.

Nature of Requirement: Section 891.100(d) prohibits amendment of the amount of approved capital advance funds prior to initial closing.

Granted by: John C. Weicher, Assistant Secretary for Housing—Federal Housing Commissioner.

Date Granted: July 19, 2002.

Reason Waived: The project is economically designed, and is comparable to other similar projects developed in the area. The sponsor exhausted all efforts to obtain additional funding from other sources.

Contact: Willie Spearmon, Director, Office of Housing Assistance and Grant Administration, Department of Housing and Urban Development, 451 Seventh Street, SW., Washington, DC 20410; telephone: (202) 708-3000.

• Regulation: 24 CFR 891.100(d).

Project/Activity: Ottawa River Estates, Toledo, OH; Project Number: 042-HD072/OH12-Q971-004.

Nature of Requirement: Section 891.100(d) prohibits amendment of the amount of approved capital advance funds prior to initial closing.

Granted by: John C. Weicher, Assistant Secretary for Housing—Federal Housing Commissioner.

Date Granted: July 19, 2002.

Reason Waived: The project is economically designed and is comparable to other similar projects developed in the area. The sponsor exhausted all efforts to obtain additional funding from other sources.

Contact: Willie Spearmon, Director, Office of Housing Assistance and Grant Administration, Department of Housing and Urban Development, 451 Seventh Street, SW., Washington, DC 20410; telephone: (202) 708-3000.

• Regulation: 24 CFR 891.100(d).

Project/Activity: Villa Seton, Port St. Lucie, FL; Project Number: 067-EE107/FL29-S001-005.

Nature of Requirement: Section 891.100(d) prohibits amendment of the amount of approved capital advance funds prior to initial closing.

Granted by: John C. Weicher, Assistant Secretary for Housing—Federal Housing Commissioner.

Date Granted: July 24, 2002.

Reason Waived: The project is economically designed and is comparable to other similar projects developed in the area. The sponsor exhausted all efforts to obtain additional funding from other sources.

Contact: Willie Spearmon, Director, Office of Housing Assistance and Grant Administration, Department of Housing and Urban Development, 451 Seventh Street, SW., Washington, DC 20410; telephone: (202) 708-3000.

• Regulation: 24 CFR 891.100(d).

Project/Activity: White Sands Manor II, Fort Walton Beach, FL; Project Number: 063-EE022/FL29-S991-009.

Nature of Requirement: Section 891.100(d) prohibits amendment of the amount of approved capital advance funds prior to initial closing.

Granted by: John C. Weicher, Assistant Secretary for Housing—Federal Housing Commissioner.

Date Granted: August 5, 2002.

Reason Waived: The project is economically designed, and is comparable to other similar projects developed in the area. The sponsor has exhausted all efforts to obtain additional funding from other sources.

Contact: Willie Spearmon, Director, Office of Housing Assistance and Grant Administration, Department of Housing and Urban Development, 451 Seventh Street, SW., Washington, DC 20410; telephone: (202) 708-3000.

• Regulation: 24 CFR 891.100(d).

Project/Activity: Owings Mills Town Center Apartments, Owings Mills, MD; Project Number: 052-EE038/MD06-S011-001.

Nature of Requirement: Section 891.100(d) prohibits amendment of the amount of approved capital advance funds prior to initial closing.

Granted by: John C. Weicher, Assistant Secretary for Housing—Federal Housing Commissioner.

Date Granted: August 6, 2002.

Reason Waived: The project is economically designed and is comparable to other similar projects developed in the area. The sponsor has exhausted all efforts to obtain additional funding from other sources.

Contact: Willie Spearmon, Director, Office of Housing Assistance and Grant Administration, Department of Housing and Urban Development, 451 Seventh Street, SW., Washington, DC 20410; telephone: (202) 708-3000.

• Regulation: 24 CFR 891.100(d).

Project/Activity: West Street Needham, MA; Project Number: 023-HD138/MA06-Q981-001.

Nature of Requirement: Section 891.100(d) prohibits amendment of the amount of approved capital advance funds prior to initial closing.

Granted by: John C. Weicher, Assistant Secretary for Housing—Federal Housing Commissioner.

Date Granted: August 12, 2002.

Reason Waived: The project is economically designed. The sponsor received $198,353 in secondary financing from the Facilities Consolidation Fund (FCF). Construction costs in the area are greater than in other parts of the country.

Contact: Willie Spearmon, Director, Office of Housing Assistance and Grant Administration, Department of Housing and Urban Development, 451 Seventh Street, SW., Washington, DC 20410; telephone: (202) 708-3000.

• Regulation: 24 CFR 891.100(d).

Project/Activity: Simpson Mid-Town Apartments, Philadelphia, PA; Project Number: 034-EE107-WAH/PA26-S001-007.

Nature of Requirement: Section 891.100(d) prohibits amendment of the amount of approved capital advance funds prior to initial closing.

Granted by: John C. Weicher, Assistant Secretary for Housing—Federal Housing Commissioner.

Date Granted: August 23, 2002.

Reason Waived: The owner has incurred construction costs due to a change in its building configuration from three to four stories as a result of a loss of one of the parcels through a tax sale. The sponsor exhausted all efforts to obtain additional funding. The project is economically designed and is comparable to other similar projects developed in the area.

Contact: Willie Spearmon, Director, Office of Housing Assistance and Grant Administration, Department of Housing and Urban Development, 451 Seventh Street, SW., Washington, DC 20410; telephone: (202) 708-3000.

• Regulation: 24 CFR 891.100(d).

Project/Activity: Howard Street Senior Apartments, San Francisco, CA; Project Number: 121-EE121/CA39-S981-014.

Nature of Requirement: Section 891.100(d) prohibits amendment of the amount of approved capital advance funds prior to initial closing.

Granted by: John C. Weicher, Assistant Secretary for Housing—Federal Housing Commissioner.

Date Granted: August 27, 2002.

Reason Waived: The project is economically designed, is comparable to other similar projects developed in the area, and the sponsor exhausted all efforts to obtain additional funding.

Contact: Willie Spearmon, Director, Office of Housing Assistance and Grant Administration, Department of Housing and Urban Development, 451 Seventh Street, SW., Washington, DC 20410; telephone: (202) 708-3000.

• Regulation: 24 CFR 891.100(d).

Project/Activity: Passumpsic View, St. Johnsbury, VT; Project Number: 024-EE057/VT36-S001-001.

Nature of Requirement: Section 891.100(d) prohibits amendment of the amount of approved capital advance funds prior to initial closing.

Granted by: John C. Weicher, Assistant Secretary for Housing—Federal Housing Commissioner.

Date Granted: August 27, 2002.

Reason Waived: The project is economically designed, is comparable to other similar projects developed in the area, and the sponsor has exhausted all efforts to obtain additional funding.

Contact: Willie Spearmon, Director, Office of Housing Assistance and Grant Administration, Department of Housing and Urban Development, 451 Seventh Street, SW., Washington, DC 20410; telephone: (202) 708-3000.

• Regulation: 24 CFR 891.100(d).

Project/Activity: Meadow Park, Sarasota, FL; Project Number: 067-EE106/FL29-S001-001.

Nature of Requirement: Section 891.100(d) prohibits amendment of the amount of approved capital advance funds prior to initial closing.

Granted by: John C. Weicher, Assistant Secretary for Housing—Federal Housing Commissioner.

Date Granted: August 27, 2002.

Reason Waived: The project is economically designed, is comparable to other similar projects developed in the area, and the sponsor has exhausted all efforts to obtain additional funding.

Contact: Willie Spearmon, Director, Office of Housing Assistance and Grant Administration, Department of Housing and Urban Development, 451 Seventh Street, SW., Washington, DC 20410; telephone: (202) 708-3000.

• Regulation: 24 CFR 891.100(d).

Project/Activity: A. Kornegay Senior Housing, New York, NY; Project Number: 012-EE303/NY36-S001-018.

Nature of Requirement: Section 891.100(d) prohibits amendment of the amount of approved capital advance funds prior to initial closing.

Granted by: John C. Weicher, Assistant Secretary for Housing—Federal Housing Commissioner.

Date Granted: August 30, 2002.

Reason Waived: The project is economically designed, is comparable to other similar projects developed in the area, and the city of New York will provide funds for site preparation.

Contact: Willie Spearmon, Director, Office of Housing Assistance and Grant Administration, Department of Housing and Urban Development, 451 Seventh Street, SW., Washington, DC 20410; telephone: (202) 708-3000.

• Regulation: 24 CFR 891.100(d).

Project/Activity: Talbot Bernard Senior Housing, Dorchester, MA; Project Number: 023-EE120/MA06-S001-005.

Nature of Requirement: Section 891.100(d) prohibits amendment of the amount of approved capital advance funds prior to initial closing.

Granted by: John C. Weicher, Assistant Secretary for Housing—Federal Housing Commissioner.

Date Granted: August 30, 2002.

Reason Waived: The project is economically designed, is comparable to other similar projects developed in the area, and the sponsor obtained additional funding from other sources in the amount of $2,000,000.

Contact: Willie Spearmon, Director, Office of Housing Assistance and Grant Administration, Department of Housing and Urban Development, 451 Seventh Street, SW., Washington, DC 20410; telephone: (202) 708-3000.

• Regulation: 24 CFR 891.100(d).

Project/Activity: Waycross VOA Housing, Waycross, GA; Project Number: 061-HD076/GA06-Q001-002.

Nature of Requirement: Section 891.100(d) prohibits amendment of the amount of approved capital advance funds prior to initial closing.

Granted by: John C. Weicher, Assistant Secretary for Housing—Federal Housing Commissioner.

Date Granted: August 30, 2002.

Reason Waived: The project is economically designed and is comparable to other similar projects developed in the area. In addition, the sponsor exhausted all efforts to obtain additional funding.

Contact: Willie Spearmon, Director, Office of Housing Assistance and Grant Administration, Department of Housing and Urban Development, 451 Seventh Street, SW., Washington, DC 20410; telephone: (202) 708-3000.

• Regulation: 24 CFR 891.100(d).

Project/Activity: Reidsville VOA Housing, Reidsville, GA; Project Number: 061-HD077/GA06-Q001-003.

Nature of Requirement: Section 891.100(d) prohibits amendment of the amount of approved capital advance funds prior to initial closing.

Granted by: John C. Weicher, Assistant Secretary for Housing—Federal Housing Commissioner.

Date Granted: August 30, 2002.

Reason Waived: The project is economically designed, is comparable to other similar projects developed in the area, and the sponsor has exhausted all efforts to obtain additional funding.

Contact: Willie Spearmon, Director, Office of Housing Assistance and Grant Administration, Department of Housing and Urban Development, 451 Seventh Street, SW., Washington, DC 20410; telephone: (202) 708-3000.

• Regulation: 24 CFR 891.100(d).

Project/Activity: Bergen Street Apartments, Providence, RI; Project Number: 016-HD029/RI43-Q991-005.

Nature of Requirement: Section 891.100(d) prohibits amendment of the amount of approved capital advance funds prior to initial closing.

Granted by: John C. Weicher, Assistant Secretary for Housing—Federal Housing Commissioner.

Date Granted: August 30, 2002.

Reason Waived: The project is economically designed, is comparable to other similar projects developed in the area, and the sponsor has exhausted all efforts to obtain additional funding.

Contact: Willie Spearmon, Director, Office of Housing Assistance and Grant Administration, Department of Housing and Urban Development, 451 Seventh Street, SW., Washington, DC 20410; telephone: (202) 708-3000.

• Regulation: 24 CFR 891.100(d).

Project/Activity: Palmer Park Senior Housing, Palmer Park, MD; Project Number: 000-EE056/MD39-S011-001.

Nature of Requirement: Section 891.100(d) prohibits amendment of the amount of approved capital advance funds prior to initial closing.

Granted by: John C. Weicher, Assistant Secretary for Housing—Federal Housing Commissioner.

Date Granted: August 30, 2002.

Reason Waived: The project is economically designed, is comparable to other similar projects developed in the area, and the sponsor obtained a grant from the state of Maryland's Affordable Housing Trust in the amount of $75,000.

Contact: Willie Spearmon, Director, Office of Housing Assistance and Grant Administration, Department of Housing and Urban Development, 451 Seventh Street, SW., Washington, DC 20410; telephone: (202) 708-3000.

• Regulation: 24 CFR 891.100(d).

Project/Activity: CNR Senior Housing, Brooklyn, NY; Project Number: 012-EE298/NY36-S001-013.

Nature of Requirement: Section 891.100(d) prohibits amendment of the amount of approved capital advance funds prior to initial closing.

Granted by: John C. Weicher, Assistant Secretary for Housing—Federal Housing Commissioner.

Date Granted: August 30, 2002.

Reason Waived: The project is economically designed, is comparable to other similar projects developed in the area, and the sponsor exhausted all efforts to obtain additional funding.

Contact: Willie Spearmon, Director, Office of Housing Assistance and Grant Administration, Department of Housing and Urban Development, 451 Seventh Street, SW., Washington, DC 20410; telephone: (202) 708-3000.

• Regulation: 24 CFR 891.100(d).

Project/Activity: Discovering Horizons, Northridge, CA; Project Number: 122-HD135/CA16-Q001-006.

Nature of Requirement: Section 891.100(d) prohibits amendment of the amount of approved capital advance funds prior to initial closing.

Granted by: John C. Weicher, Assistant Secretary for Housing—Federal Housing Commissioner.

Date Granted: August 30, 2002.

Reason Waived: The project is economically designed, is comparable to other similar projects developed in the area, and the sponsor exhausted all efforts to obtain additional funding.

Contact: Willie Spearmon, Director, Office of Housing Assistance and Grant Administration, Department of Housing and Urban Development, 451 Seventh Street, SW., Washington, DC 20410; telephone: (202) 708-3000.

• Regulation: 24 CFR 891.100(d).

Project/Activity: Fuller Gardens, San Leandro, CA; Project Number: 121-HD073/CA39-Q001-002.

Nature of Requirement: Section 891.100(d) prohibits amendment of the amount of approved capital advance funds prior to initial closing.

Granted by: John C. Weicher, Assistant Secretary for Housing—Federal Housing Commissioner.

Date Granted: August 30, 2002.

Reason Waived: The project is economically designed, is comparable to other similar projects developed in the area, and the sponsor exhausted all efforts to obtain additional funding from other sources.

Contact: Willie Spearmon, Director, Office of Housing Assistance and Grant Administration, Department of Housing and Urban Development, 451 Seventh Street, SW., Washington, DC 20410; telephone: (202) 708-3000.

• Regulation: 24 CFR 891.100(d).

Project/Activity: Ghost Creek Housing, River Falls, WI; Project Number: 075-HD067/WI39-Q001-004.

Nature of Requirement: Section 891.100(d) prohibits amendment of the amount of approved capital advance funds prior to initial closing.

Granted by: John C. Weicher, Assistant Secretary for Housing—Federal Housing Commissioner.

Date Granted: August 30, 2002.

Reason Waived: The project is economically designed, is comparable to other similar projects developed in the area, and the sponsor exhausted all efforts to obtain additional funding from other sources.

Contact: Willie Spearmon, Director, Office of Housing Assistance and Grant Administration, Department of Housing and Urban Development, 451 Seventh Street, SW., Washington, DC 20410; telephone: (202) 708-3000.

• Regulation: 24 CFR 891.100(d).

Project/Activity: Hale O Mana'o Lana Hou II, Wailuku, Maui, HI; Project Number: 140-HD015/HI10-Q961-001.

Nature of Requirement: Section 891.100(d) prohibits amendment of the amount of approved capital advance funds prior to initial closing.

Granted by: John C. Weicher, Assistant Secretary for Housing—Federal Housing Commissioner.

Date Granted: August 30, 2002.

Reason Waived: The project is economically designed, is comparable to other similar projects developed in the area, and the sponsor could not contribute any additional funds.

Contact: Willie Spearmon, Director, Office of Housing Assistance and Grant Administration, Department of Housing and Urban Development, 451 Seventh Street, SW., Washington, DC 20410; telephone: (202) 708-3000.

• Regulation: 24 CFR 891.100(d).

Project/Activity: Share VIII, Selden, NY; Project Number: 012-HD099/NY36-Q001-004.

Nature of Requirement: Section 891.100(d) prohibits amendment of the amount of approved capital advance funds prior to initial closing.

Granted by: John C. Weicher, Assistant Secretary for Housing—Federal Housing Commissioner.

Date Granted: August 30, 2002.

Reason Waived: The project is economically designed, is comparable to other similar projects developed in the area, and the sponsor exhausted all efforts to obtain additional funding from other sources.

Contact: Willie Spearmon, Director, Office of Housing Assistance and Grant Administration, Department of Housing and Urban Development, 451 Seventh Street, SW., Washington, DC 20410; telephone: (202) 708-3000.

• Regulation: 24 CFR 891.100(d).

Project/Activity: The Owen House, Fair Haven, VT; Project Number: 024-HD032/VT36-Q001-001.

Nature of Requirement: Section 891.100(d) prohibits amendment of the amount of approved capital advance funds prior to initial closing.

Granted by: John C. Weicher, Assistant Secretary for Housing—Federal Housing Commissioner.

Date Granted: August 30, 2002.

Reason Waived: The project is economically designed, is comparable to other similar projects developed in the area, and the sponsor exhausted all efforts to obtain additional funding from other sources.

Contact: Willie Spearmon, Director, Office of Housing Assistance and Grant Administration, Department of Housing and Urban Development, 451 Seventh Street, SW., Washington, DC 20410; telephone: (202) 708-3000.

• Regulation: 24 CFR 891.100(d).

Project/Activity: The Harvey House, Castleton, VT; Project Number: 024-HD033/VT36-Q001-002.

Nature of Requirement: Section 891.100(d) prohibits amendment of the amount of approved capital advance funds prior to initial closing.

Granted by: John C. Weicher, Assistant Secretary for Housing—Federal Housing Commissioner.

Date Granted: August 30, 2002.

Reason Waived: The project is economically designed, is comparable to other similar projects developed in the area, and the sponsor exhausted all efforts to obtain additional funding from other sources.

Contact: Willie Spearmon, Director, Office of Housing Assistance and Grant Administration, Department of Housing and Urban Development, 451 Seventh Street, SW., Washington, DC 20410; telephone: (202) 708-3000.

• Regulation: 24 CFR 891.100(d).

Project/Activity: Fiesta House, Reseda, CA; Project Number: 122-EE166/CA16-S001-003.

Nature of Requirement: Section 891.100(d) prohibits amendment of the amount of approved capital advance funds prior to initial closing.

Granted by: John C. Weicher, Assistant Secretary for Housing—-Federal Housing Commissioner.

Date Granted: August 30, 2002.

Reason Waived: The project is economically designed, is comparable to other similar projects developed in the area, and the sponsor exhausted all efforts to obtain additional funding from other sources.

Contact: Willie Spearmon, Director, Office of Housing Assistance and Grant Administration, Department of Housing and Urban Development, 451 Seventh Street, SW., Washington, DC 20410; telephone: (202) 708-3000.

• Regulation: 24 CFR 891.100(d).

Project/Activity: NAF/Imperial Senior Housing, Imperial, NE; Project Number: 103-EE024/NE26-S001-003.

Nature of Requirement: Section 891.100(d) prohibits amendment of the amount of approved capital advance funds prior to initial closing.

Granted by: John C. Weicher, Assistant Secretary for Housing—Federal Housing Commissioner.

Date Granted: September 6, 2002.

Reason Waived: The project is economically designed, is comparable in cost to similar projects, and the sponsor could not contribute any additional funds.

Contact: Willie Spearmon, Director, Office of Housing Assistance and Grant Administration, Department of Housing and Urban Development, 451 Seventh Street, SW., Washington, DC 20410; telephone: (202) 708-3000.

• Regulation: 24 CFR 891.100(d).

Project/Activity: Margaret Wagner Apartments, Cleveland Heights, OH, Project Number: 042-EE118/OH12-S001-002.

Nature of Requirement: Section 891.100(d) prohibits amendment of the amount of approved capital advance funds prior to initial closing.

Granted by: John C. Weicher, Assistant Secretary for Housing—Federal Housing Commissioner.

Date Granted: September 12, 2002.

Reason Waived: The project is economically designed, is comparable to other similar projects developed in the area, and the sponsor has exhausted all efforts to obtain additional funding from other sources.

Contact: Willie Spearmon, Director, Office of Housing Assistance and Grant Administration, Department of Housing and Urban Development, 451 Seventh Street, SW., Washington, DC 20410; telephone: (202) 708-3000.

• Regulation: 24 CFR 891.100(d).

Project/Activity: Trinity Terrace, Fort Washington, MD, Project Number: 000-EE054/MD39-S001-001.

Nature of Requirement: Section 891.100(d) prohibits amendment of the amount of approved capital advance funds prior to initial closing.

Granted by: John C. Weicher, Assistant Secretary for Housing—Federal Housing Commissioner.

Date Granted: September 12, 2002.

Reason Waived: The project is economically designed, is comparable to other similar projects developed in the area, and the sponsor exhausted all efforts to obtain additional funding from other sources.

Contact: Willie Spearmon, Director, Office of Housing Assistance and Grant Administration, Department of Housing and Urban Development, 451 Seventh Street, SW., Washington, DC 20410; telephone: (202) 708-3000.

• Regulation: 24 CFR 891.100(d).

Project/Activity: Walter S. Brooks Elderly Homes at Ormont Court, New Haven, CT, Project Number: 017-EE059/CT26-S001-002.

Nature of Requirement: Section 891.100(d) prohibits amendment of the amount of approved capital advance funds prior to initial closing.

Granted by: John C. Weicher, Assistant Secretary for Housing—Federal Housing Commissioner.

Date Granted: September 16, 2002.

Reason Waived: The project is economically designed, is comparable to other similar projects developed in the area, and the sponsor exhausted all efforts to obtain additional funding from other sources.

Contact: Willie Spearmon, Director, Office of Housing Assistance and Grant Administration, Department of Housing and Urban Development, 451 Seventh Street, SW., Washington, DC 20410; telephone: (202) 708-3000.

• Regulation: 24 CFR 891.100(d).

Project/Activity: Reseda Horizons, Northridge, CA; Project Number: 122-HD136/CA16-Q001-007.

Nature of Requirement: Section 891.100(d) prohibits amendment of the amount of approved capital advance funds prior to initial closing.

Granted by: John C. Weicher, Assistant Secretary for Housing—Federal Housing Commissioner.

Date Granted: September 16, 2002.

Reason Waived: The project is economically designed, is comparable to other similar projects developed in the area, and the sponsor exhausted all efforts to obtain additional funding from other sources.

Contact: Willie Spearmon, Director, Office of Housing Assistance and Grant Administration, Department of Housing and Urban Development, 451 Seventh Street, SW., Washington, DC 20410; telephone: (202) 708-3000.

• Regulation: 24 CFR 891.100(d) and 24 CFR 891.165.

Project/Activity: Holy Rosary Senior Residence, Union City, NJ, Project Number: 031-EE049/NJ39-S981-006.

Nature of Requirement: Section 891.100(d) prohibits amendment of the amount of approved capital advance funds prior to initial closing. Section 891.165 provides that the duration of the fund reservation of the capital advance is 18 months from the date of issuance with limited exceptions up to 24 months, as approved by HUD on a case-by-case basis.

Granted by: John C. Weicher, Assistant Secretary for Housing—Federal Housing Commissioner.

Date Granted: July 22, 2002.

Reason Waived: The project is economically designed, is comparable to other similar projects developed in the area, and the sponsor secured additional secondary financing for a portion of the shortfall. Additional time was needed for the firm commitment to be reprocessed due to an increase in construction costs.

Contact: Willie Spearmon, Director, Office of Housing Assistance and Grant Administration, Department of Housing and Urban Development, 451 Seventh Street, SW., Washington, DC 20410; telephone: (202) 708-3000.

• Regulation: 24 CFR 891.100(d) and 24 CFR 891.165.

Project/Activity: Independent Living Horizons VII, Thomson, GA; Project Number: 061-HD062/GA06-Q981-001.

Nature of Requirement: Section 891.100(d) prohibits amendment of the amount of approved capital advance funds prior to initial closing. Section 891.165 provides that the duration of the fund reservation of the capital advance is 18 months from the date of issuance with limited exceptions up to 24 months, as approved by HUD on a case-by-case basis.

Granted by: John C. Weicher, Assistant Secretary for Housing—Federal Housing Commissioner.

Date Granted: August 5, 2002.

Reason Waived: The project is economically designed and comparable to other similar projects developed in the area. The sponsor exhausted all efforts to obtain additional funding from other sources. The sponsor incurred delays in identifying a site due to circumstances beyond their control.

Contact: Willie Spearmon, Director, Office of Housing Assistance and Grant Administration, Department of Housing and Urban Development, 451 Seventh Street, SW., Washington, DC 20410; telephone: (202) 708-3000.

• Regulation: 24 CFR 891.100(d) and 24 CFR 891.165.

Project/Activity: The Orange County Two-Site Project, Town of Hamptonburgh, NY; Project Number: 012-HD091/NY36-Q991-002.

Nature of Requirement: Section 891.100(d) prohibits amendment of the amount of approved capital advance funds prior to initial closing. Section 891.165 provides that the duration of the fund reservation of the capital advance is 18 months from the date of issuance with limited exceptions up to 24 months, as approved by HUD on a case-by-case basis.

Granted by: John C. Weicher, Assistant Secretary for Housing—Federal Housing Commissioner.

Date Granted: August 30, 2002.

Reason Waived: The project is economically designed and is comparable to other similar projects developed in the area. One of the original sites had to be replaced and the Sponsor encountered delays due to a major difficulty in securing an affordable site because of the escalation of land costs.

Contact: Willie Spearmon, Director, Office of Housing Assistance and Grant Administration, Department of Housing and Urban Development, 451 Seventh Street, SW., Washington, DC 20410; telephone: (202) 708-3000.

• Regulation: 24 CFR 891.100(d) and 24 CFR 891.165.

Project/Activity: George and Lois Brown Estates, Henderson, NV; Project Number: 125-HD067/NV25-Q991-001.

Nature of Requirement: Section 891.100(d) prohibits amendment of the amount of approved capital advance funds prior to initial closing. Section 891.165 provides that the duration of the fund reservation of the capital advance is 18 months from the date of issuance with limited exceptions up to 24 months, as approved by HUD on a case-by-case basis.

Granted by: John C. Weicher, Assistant Secretary for Housing—Federal Housing Commissioner.

Date Granted: August 30, 2002.

Reason Waived: The project is economically designed, is comparable to other similar projects developed in the area, and the sponsor exhausted all efforts to obtain additional funding from other sources. In addition, the sponsor incurred delays when the original architect had to withdraw from the project and the city of Henderson raised issues concerning the classification of the project, which had to be resolved.

Contact: Willie Spearmon, Director, Office of Housing Assistance and Grant Administration, Department of Housing and Urban Development, 451 Seventh Street, SW., Washington, DC 20410; telephone: (202) 708-3000.

• Regulation: 24 CFR 891.100(d) and 24 CFR 891.165.

Project/Activity: Jawonio Residential Opportunities II, Hillcrest NY; Project Number: 012-HD094/NY36-Q991-005.

Nature of Requirement: Section 891.100(d) prohibits amendment of the amount of approved capital advance funds prior to initial closing. Section 891.165 provides that the duration of the fund reservation of the capital advance is 18 months from the date of issuance with limited exceptions up to 24 months, as approved by HUD on a case-by-case basis.

Granted by: John C. Weicher, Assistant Secretary for Housing—Federal Housing Commissioner.

Date Granted: September 23, 2002.

Reason Waived: The project is economically designed and is comparable to other similar projects developed in the area. The New York State Office of Mental Retardation and Developmental Disabilities will provide $393,271 in secondary funding. The project encountered delays in its effort to secure zoning and environmental approvals, and took time to reconcile design reviews and feasibility with related constructions costs.

Contact: Willie Spearmon, Director, Office of Housing Assistance and Grant Administration, Department of Housing and Urban Development, 451 Seventh Street, SW., Washington, DC 20410; telephone: (202) 708-3000.

• Regulation: 24 CFR 891.100(d) and 24 CFR 891.165.

Project/Activity: Main and Arnold Senior Housing, Half Moon Bay, San Mateo County, CA; Project Number: 121-EE126/CA39-S991-005.

Nature of Requirement: Section 891.100(d) prohibits amendment of the amount of approved capital advance funds prior to initial closing. Section 891.165 provides that the duration of the fund reservation of the capital advance is 18 months from the date of issuance with limited exceptions up to 24 months, as approved by HUD on a case-by-case basis.

Granted by: John C. Weicher, Assistant Secretary for Housing—Federal Housing Commissioner.

Date Granted: September 23, 2002.

Reason Waived: The project is economically designed and comparable to other projects developed in the area. The sponsor exhausted all efforts to find additional funding to cover the development cost shortfall. The project incurred significant delays associated with the local approval process required to ensure that the project will be designed in compliance with the California Environmental Quality Act.

Contact: Willie Spearmon, Director, Office of Housing Assistance and Grant Administration, Department of Housing and Urban Development, 451 Seventh Street, SW., Washington, DC 20410; telephone: (202) 708-3000.

• Regulation: 24 CFR 891.165.

Project/Activity: Vermont Seniors, Los Angeles, CA; Project Number: 122-EE148/CA16-S981-017.

Nature of Requirement: Section 891.165 provides that the duration of the fund reservation for the capital advance is 18 months from the date of issuance with limited exceptions up to 24 months, as approved by HUD on a case-by-case basis.

Granted by: John C. Weicher, Assistant Secretary for Housing—Federal Housing Commissioner.

Date Granted: July 11, 2002.

Reason Waived: The project incurred delays primarily due to demolition of commercial and residential structures, the relocation process, and the time taken to receive additional funding for land acquisition and development costs.

Contact: Willie Spearmon, Director, Office of Housing Assistance and Grant Administration, Department of Housing and Urban Development, 451 Seventh Street, SW., Washington, DC 20410; telephone: (202) 708-3000.

• Regulation: 24 CFR 891.165.

Project/Activity: Main Street New Hope Courtyard Apartments, Los Angeles, CA; Project Number: 122-HD127/CA16-Q991-011.

Nature of Requirement: Section 891.165 provides that the duration of the fund reservation for the capital advance is 18 months from the date of issuance with limited exceptions up to 24 months, as approved by HUD on a case-by-case basis.

Granted by: John C. Weicher, Assistant Secretary for Housing—Federal Housing Commissioner.

Date Granted: July 12, 2002.

Reason Waived: Additional time is needed to resolve the use of the new California State Multifamily Housing Program funds, and to obtain the bridge financing that will meet program requirements during construction.

Contact: Willie Spearmon, Director, Office of Housing Assistance and Grant Administration, Department of Housing and Urban Development, 451 Seventh Street, SW., Washington, DC 20410; telephone: (202) 708-3000.

• Regulation: 24 CFR 891.165.

Project/Activity: Cedar Street Senior Apartments, Garberville, CA; Project Number: 121-EE118/CA39-S981-011.

Nature of Requirement: Section 891.165 provides that the duration of the fund reservation for the capital advance is 18 months from the date of issuance with limited exceptions up to 24 months, as approved by HUD on a case-by-case basis.

Granted by: John C. Weicher, Assistant Secretary for Housing—Federal Housing Commissioner.

Date Granted: July 15, 2002.

Reason Waived: The project was delayed while the owner resolved site formation and market issues.

Contact: Willie Spearmon, Director, Office of Housing Assistance and Grant Administration, Department of Housing and Urban Development, 451 Seventh Street, SW., Washington, DC 20410; telephone: (202) 708-3000.

• Regulation: 24 CFR 891.165.

Project/Activity: Rhinelander Elderly Housing, Rhinelander, WI; Project Number: 075-EE090/WI39-S991-010.

Nature of Requirement: Section 891.165 provides that the duration of the fund reservation for the capital advance is 18 months from the date of issuance with limited exceptions up to 24 months, as approved by HUD on a case-by-case basis.

Granted by: John C. Weicher, Assistant Secretary for Housing—Federal Housing Commissioner.

Date Granted: July 17, 2002.

Reason Waived: The project was delayed while the owner resolved a series of site problems.

Contact: Willie Spearmon, Director, Office of Housing Assistance and Grant Administration, Department of Housing and Urban Development, 451 Seventh Street, SW., Washington, DC 20410; telephone: (202) 708-3000.

• Regulation: 24 CFR 891.165.

Project/Activity: Community Hope II Consumer Home, Roxbury, NJ; Project Number: 031-HD104/NJ39-Q991-010.

Nature of Requirement: Section 891.165 provides that the duration of the fund reservation for the capital advance is 18 months from the date of issuance with limited exceptions up to 24 months, as approved by HUD on a case-by-case basis.

Granted by: John C. Weicher, Assistant Secretary for Housing—Federal Housing Commissioner.

Date Granted: July 18, 2002.

Reason Waived: A new contractor was hired for the project forcing the completion of new documents and changed drawings.

Contact: Willie Spearmon, Director, Office of Housing Assistance and Grant Administration, Department of Housing and Urban Development, 451 Seventh Street, SW., Washington, DC 20410; telephone: (202) 708-3000.

• Regulation: 24 CFR 891.165.

Project/Activity: Somerset Consumer Home, North Plainfield, NJ; Project Number: 031-HD103/NJ39-Q991-009.

Nature of Requirement: Section 891.165 provides that the duration of the fund reservation for the capital advance is 18 months from the date of issuance with limited exceptions up to 24 months, as approved by HUD on a case-by-case basis.

Granted by: John C. Weicher, Assistant Secretary for Housing—Federal Housing Commissioner.

Date Granted: July 18, 2002.

Reason Waived: The owner experienced delays due to the difficulty in obtaining building permits.

Contact: Willie Spearmon, Director, Office of Housing Assistance and Grant Administration, Department of Housing and Urban Development, 451 Seventh Street, SW., Washington, DC 20410; telephone: (202) 708-3000.

• Regulation: 24 CFR 891.165.

Project/Activity: St. Mary's Home for the Elderly, Trujillo Alto, PR, Project Number: 056-EE039/RQ46-S991-003.

Nature of Requirement: Section 891.165 provides that the duration of the fund reservation for the capital advance is 18 months from the date of issuance with limited exceptions up to 24 months, as approved by HUD on a case-by-case basis.

Granted by: John C. Weicher, Assistant Secretary for Housing—Federal Housing Commissioner.

Date Granted: July 19, 2002.

Reason Waived: Delays were incurred due to the sponsor's inability to obtain the needed endorsements and permits from the regulatory agencies in a timely manner.

Contact: Willie Spearmon, Director, Office of Housing Assistance and Grant Administration, Department of Housing and Urban Development, 451 Seventh Street, SW., Washington, DC 20410; telephone: (202) 708-3000.

• Regulation: 24 CFR 891.165.

Project/Activity: Loretto Heritage Apartments, Syracuse, NY; Project Number: 014-HD084/NY06-Q991-001.

Nature of Requirement: Section 891.165 provides that the duration of the fund reservation for the capital advance is 18 months from the date of issuance with limited exceptions up to 24 months, as approved by HUD on a case-by-case basis.

Granted by: John C. Weicher, Assistant Secretary for Housing—Federal Housing Commissioner.

Date Granted: July 19, 2002.

Reason Waived: Additional time was needed for the sponsor to secure financing in order to cover the installation cost of a new water line.

Contact: Willie Spearmon, Director, Office of Housing Assistance and Grant Administration, Department of Housing and Urban Development, 451 Seventh Street, SW., Washington, DC 20410; telephone: (202) 708-3000.

• Regulation: 24 CFR 891.165.

Project/Activity: Harborside II ILC, Paterson, NJ; Project Number: 031-HD102/NJ39-S991-007.

Nature of Requirement: Section 891.165 provides that the duration of the fund reservation for the capital advance is 18 months from the date of issuance with limited exceptions up to 24 months, as approved by HUD on a case-by-case basis.

Granted by: John C. Weicher, Assistant Secretary for Housing—Federal Housing Commissioner.

Date Granted: July 19, 2002.

Reason Waived: Title corrections were needed on all of the condominium units in the building.

Contact: Willie Spearmon, Director, Office of Housing Assistance and Grant Administration, Department of Housing and Urban Development, 451 Seventh Street, SW., Washington, DC 20410; telephone: (202) 708-3000.

• Regulation: 24 CFR 891.165.

Project/Activity: Ray Rawson Villas, Las Vegas, NV; Project Number: 125-HD064/NV25-Q971-001.

Nature of Requirement: Section 891.165 provides that the duration of the fund reservation for the capital advance is 18 months from the date of issuance with limited exceptions up to 24 months, as approved by HUD on a case-by-case basis.

Granted by: John C. Weicher, Assistant Secretary for Housing—Federal Housing Commissioner.

Date Granted: July 19, 2002.

Reason Waived: The sponsor needed to raise significant local funds for additional construction costs. There were delays in obtaining acceptable bids from contractors. The project architect withdrew due to ill health.

Contact: Willie Spearmon, Director, Office of Housing Assistance and Grant Administration, Department of Housing and Urban Development, 451 Seventh Street, SW., Washington, DC 20410; telephone: (202) 708-3000.

• Regulation: 24 CFR 891.165.

Project/Activity: Inglis Gardens at Evesham, Newark, NJ; Project Number: 035-HD040/NJ39-Q981-001.

Nature Of Requirement: Section 891.165 provides that the duration of the fund reservation for the capital advance is 18 months from the date of issuance with limited exceptions up to 24 months, as approved by HUD on a case-by-case basis.

Granted by: John C. Weicher, Assistant Secretary for Housing—Federal Housing Commissioner.

Date Granted: July 26, 2002.

Reason Waived: Additional time was needed for the issuance of a soil conservation permit from the county and for the HUD field office to resolve an issue regarding the engineering documents for the project.

Contact: Willie Spearmon, Director, Office of Housing Assistance and Grant Administration, Department of Housing and Urban Development, 451 Seventh Street, SW., Washington, DC 20410; telephone: (202) 708-3000.

• Regulation: 24 CFR 891.165.

Project/Activity: Lowell Residence, Lowell, MA; Project Number: 023-HD146/MA06-Q981-009.

Nature of Requirement: Section 891.165 provides that the duration of the fund reservation for the capital advance is 18 months from the date of issuance with limited exceptions up to 24 months, as approved by HUD on a case-by-case basis.

Granted by: John C. Weicher, Assistant Secretary for Housing—Federal Housing Commissioner.

Date Granted: July 26, 2002.

Reason Waived: There were architectural design and construction bidding issues due to the market conditions of the area, environmental issues which required further testing, and subsequent amendments to the plans and specifications for asbestos removal. There were also changes to the sponsor's Board of Directors.

Contact: Willie Spearmon, Director, Office of Housing Assistance and Grant Administration, Department of Housing and Urban Development, 451 Seventh Street, SW., Washington, DC 20410; telephone: (202) 708-3000.

• Regulation: 24 CFR 891.165.

Project/Activity: Homes Anew I, Southold, NY; Project Number: 012-HD095/NY36-Q991-006.

Nature of Requirement: Section 891.165 provides that the duration of the fund reservation for the capital advance is 18 months from the date of issuance with limited exceptions up to 24 months, as approved by HUD on a case-by-case basis.

Granted by: John C. Weicher, Assistant Secretary for Housing—Federal Housing Commissioner.

Date Granted: August 6, 2002.

Reason Waived: The sponsor was unable to achieve closing due to difficulties imposed by the two localities in issuing building permits.

Contact: Willie Spearmon, Director, Office of Housing Assistance and Grant Administration, Department of Housing and Urban Development, 451 Seventh Street, SW., Washington, DC 20410; telephone: (202) 708-3000.

• Regulation: 24 CFR 891.165.

Project/Activity: Community Hope I Consumer Home, Parsippany, NJ; Project Number: 031-HD100/NJ39-Q991-005.

Nature of Requirement: Section 891.165 provides that the duration of the fund reservation for the capital advance is 18 months from the date of issuance with limited exceptions up to 24 months, as approved by HUD on a case-by-case basis.

Granted by: John C. Weicher, Assistant Secretary for Housing—Federal Housing Commissioner.

Date Granted: August 6, 2002.

Reason Waived: Additional time was needed for the owner to revise the drawings to include a chair lift/inclinator instead of a ramp in order to meet the requirements of the Americans with Disabilities Act, and for the township to review the revised drawings.

Contact: Willie Spearmon, Director, Office of Housing Assistance and Grant Administration, Department of Housing and Urban Development, 451 Seventh Street, SW., Washington, DC 20410; telephone: (202) 708-3000.

• Regulation: 24 CFR 891.165.

Project/Activity: Three Bridges, Readington Township, NJ; Project Number: 031-EE042/NJ39-S961-008.

Nature of Requirement: Section 891.165 provides that the duration of the fund reservation for the capital advance is 18 months from the date of issuance with limited exceptions up to 24 months, as approved by HUD on a case-by-case basis.

Granted by: John C. Weicher, Assistant Secretary for Housing—Federal Housing Commissioner.

Date Granted: August 7, 2002.

Reason Waived: Additional time was needed for the owner to secure an alternate site because the project could not proceed at the original site due to the fact that the sewer allocation for the township had been exceeded.

Contact: Willie Spearmon, Director, Office of Housing Assistance and Grant Administration, Department of Housing and Urban Development, 451 Seventh Street, SW., Washington, DC 20410; telephone: (202) 708-3000.

• Regulation: 24 CFR 891.165.

Project/Activity: Carrie P. Meek Manor, Miami, FL; Project Number: 066-EE071/FL29-S991-016.

Nature of Requirement: Section 891.165 provides that the duration of the fund reservation for the capital advance is 18 months from the date of issuance with limited exceptions up to 24 months, as approved by HUD on a case-by-case basis.

Granted by: John C. Weicher, Assistant Secretary for Housing—Federal Housing Commissioner.

Date Granted: August 27, 2002.

Reason Waived: Additional time was needed for the owner to complete the firm commitment application and for the closing.

Contact: Willie Spearmon, Director, Office of Housing Assistance and Grant Administration, Department of Housing and Urban Development, 451 Seventh Street, SW., Washington, DC 20410; telephone: (202) 708-3000.

• Regulation: 24 CFR 891.165.

Project/Activity: Henderson Supportive Housing, Henderson, Clark County, NV; Project Number: 125-HD067/NV25-Q991-001.

Nature of Requirement: Section 891.165 provides that the duration of the fund reservation for the capital advance is 18 months from the date of issuance with limited exceptions up to 24 months, as approved by HUD on a case-by-case basis.

Granted by: John C. Weicher, Assistant Secretary for Housing—Federal Housing Commissioner.

Date Granted: September 23, 2002.

Reason Waived: The sponsor needed additional time to identify funding sources to cover shortfalls.

Contact: Willie Spearmon, Director, Office of Housing Assistance and Grant Administration, Department of Housing and Urban Development, 451 Seventh Street, SW., Washington, DC 20410; telephone: (202) 708-3000.

• Regulation: 24 CFR 891.165.

Project/Activity: Pine Street Inn Housing II, Dorchester, MA; Project Number: 023-EE098/MA06-S981-003.

Nature of Requirement: Section 891.165 provides that the duration of the fund reservation for the capital advance is 18 months from the date of issuance with limited exceptions up to 24 months, as approved by HUD on a case-by-case basis.

Granted by: John C. Weicher, Assistant Secretary for Housing—Federal Housing Commissioner.

Date Granted: September 23, 2002.

Reason Waived: Additional time was needed for the owner to correct the deficiencies in the firm commitment application.

Contact: Willie Spearmon, Director, Office of Housing Assistance and Grant Administration, Department of Housing and Urban Development, 451 Seventh Street, SW., Washington, DC 20410; telephone: (202) 708-3000.

• Regulation: 24 CFR 891.165.

Project/Activity: Employment Options, Marlboro, MA; Project Number: 023-HD131/MA06-Q971-012.

Nature of Requirement: Section 891.165 provides that the duration of the fund reservation for the capital advance is 18 months from the date of issuance with limited exceptions up to 24 months, as approved by HUD on a case-by-case basis.

Granted by: John C. Weicher, Assistant Secretary for Housing—Federal Housing Commissioner.

Date Granted: September 25, 2002.

Reason Waived: The project was delayed while the owner sought secondary financing and resolved a site problem with subsurface ledge.

Contact: Willie Spearmon, Director, Office of Housing Assistance and Grant Administration, Department of Housing and Urban Development, 451 Seventh Street, SW., Washington, DC 20410; telephone: (202) 708-3000

• Regulation: 24 CFR 891.165.

Project/Activity: Waltham Residence, Waltham, MA; Project Number: 023-HD145/MA06-Q981-008.

Nature of Requirement: Section 891.165 provides that the duration of the fund reservation for the capital advance is 18 months from the date of issuance with limited exceptions up to 24 months, as approved by HUD on a case-by-case basis.

Granted by: John C. Weicher, Assistant Secretary for Housing—Federal Housing Commissioner.

Date Granted: September 30, 2002.

Reason Waived: The project experienced delays while the sponsor secured secondary financing and changed housing consultants.

Contact: Willie Spearmon, Director, Office of Housing Assistance and Grant Administration, Department of Housing and Urban Development, 451 Seventh Street, SW., Washington, DC 20410; telephone: (202) 708-3000.

• Regulation: 24 CFR 891.165.

Project/Activity: Three Gems, Lowell, MA; Project Number: 023-HD161/MA06-Q991-009.

Nature of Requirement: Section 891.165 provides that the duration of the fund reservation for the capital advance is 18 months from the date of issuance with limited exceptions up to 24 months, as approved by HUD on a case-by-case basis.

Granted by: John C. Weicher, Assistant Secretary for Housing—Federal Housing Commissioner.

Date Granted: September 30, 2002.

Reason Waived: The sponsor had to secure secondary financing for the project and the concurrence of the Massachusetts Historical Commission since the project is of historical significance, and asbestos abatement also had to be performed.

Contact: Willie Spearmon, Director, Office of Housing Assistance and Grant Administration, Department of Housing and Urban Development, 451 Seventh Street, SW., Washington, DC 20410; telephone: (202) 708-3000.

• Regulation: 24 CFR 891.165.

Project/Activity: Bolton Senior Housing, Bolton, MA; Project Number: 023-EE080/MA06-S961-016.

Nature of Requirement: Section 891.165 provides that the duration of the fund reservation for the capital advance is 18 months from the date of issuance with limited exceptions up to 24 months, as approved by HUD on a case-by-case basis.

Granted by: John C. Weicher, Assistant Secretary for Housing—Federal Housing Commissioner.

Date Granted: September 30, 2002.

Reason Waived: It took over nine months for the town of Bolton to approve Massachusetts Housing Partnership documents concerning the site. Additional delays were incurred to resolve project design issues raised by local community residents. The project is now proceeding in an expeditious manner; and the owner's appeal for an additional extension of the fund reservation was granted. There is a stipulation that no further reservation will be granted. The extension expires March 31, 2003.

Contact: Willie Spearmon, Director, Office of Housing Assistance and Grant Administration, Department of Housing and Urban Development, 451 Seventh Street, SW., Washington, DC 20410; telephone: (202) 708-3000.

• Regulation: 24 CFR 891.205.

Project/Activity: Sullivan House Phase II, Virginia Beach, VA; Project Number: 051-EE086/VA36-S011-009.

Nature of Requirement: Section 891.205 requires that Section 202 project owners be single-purpose corporations.

Granted by: John C. Weicher, Assistant Secretary for Housing—Federal Housing Commissioner.

Date Granted: August 23, 2002.

Reason Waived: The sponsor, Catholic Diocese of Richmond, wants to add 65 units to its existing Section 202 project. The sponsor requested authorization to place a second mortgage on this second Phase II project.

Contact: Willie Spearmon, Director, Office of Housing Assistance and Grant Administration, Department of Housing and Urban Development, 451 Seventh Street, SW., Washington, DC 20410; telephone: (202) 708-3000.

• Regulation: 24 CFR 891.205.

Project/Activity: Greater Allen Cathedral of New York Senior Residence, Jamaica, Queens, NY; Project Number: 012-EE291/NY36-S001-006.

Nature of Requirement: Section 891.205 requires that Section 202 project owners to have timely IRS tax-exempt status rulings.

Granted by: John C. Weicher, Assistant Secretary for Housing—Federal Housing Commissioner.

Date Granted: September 23, 2002.

Reason Waived: The required tax-exemption ruling for the owner from the Internal Revenue Service was not expected to be issued in time for the scheduled initial closing of the project.

Contact: Willie Spearmon, Director, Office of Housing Assistance and Grant Administration, Department of Housing and Urban Development, 451 Seventh Street, SW., Washington, DC 20410; telephone: (202) 708-3000.

• Regulation: 24 CFR 891.205.

Project/Activity: William F. (Bill) Brown Manor, Belzoni, MS; Project Number: 065-EE036/MS26-S011-005.

Nature of Requirement: Section 891.205 requires that Section 202 project owners have timely IRS tax-exempt status rulings.

Granted by: John C. Weicher, Assistant Secretary for Housing—Federal Housing Commissioner.

Date Granted: September 30, 2002.

Reason Waived: The required tax-exemption ruling for the owner from the Internal Revenue Service was not expected to be issued in time for the scheduled initial closing of the project.

Contact: Willie Spearmon, Director, Office of Housing Assistance and Grant Administration, Department of Housing and Urban Development, 451 Seventh Street, SW., Washington, DC 20410; telephone: (202) 708-3000.

• Regulation: 24 CFR 891.310(b)(1) and (b)(2).

Project/Activity: Options Supported Housing Project VII, Central Islip, NY; Project Number: 012-HD096/NY36-Q001-001.

Nature of Requirement: Sections 891.310(b)(1) and (b)(2) require that all entrances, common areas, units to be occupied by resident staff, and amenities must be readily accessible to, and usable by, persons with disabilities.

Granted by: John C. Weicher, Assistant Secretary for Housing—Federal Housing Commissioner.

Date Granted: August 27, 2002.

Reason Waived: Eleven percent of the bedrooms of the project were determined to meet all accessibility requirements and the majority of the potential residents did not require accessibility features.

Contact: Willie Spearmon, Director, Office of Housing Assistance and Grant Administration, Department of Housing and Urban Development, 451 Seventh Street, SW., Washington, DC 20410; telephone: (202) 708-3000.

• Regulation: 24 CFR 891.310(b)(1) and (b)(2).

Project/Activity: Project Share VIII, Selden, NY; Project Number: 012-HD099/NY36-Q001-004.

Nature of Requirement: Sections 891.310(b)(1) and (b)(2) require that all entrances, common areas, units to be occupied by resident staff, and amenities must be readily accessible to, and usable by, persons with disabilities.

Granted by: John C. Weicher, Assistant Secretary for Housing—Federal Housing Commissioner.

Date Granted: August 30, 2002.

Reason Waived: Ten percent of the project's bedrooms were determined to meet all accessibility requirements and the majority of the potential residents did not require accessibility features.

Contact: Willie Spearmon, Director, Office of Housing Assistance and Grant Administration, Department of Housing and Urban Development, 451 Seventh Street, SW., Washington, DC 20410; telephone: (202) 708-3000.

• Regulation: 24 CFR 891.410(c).

Project/Activity: Greenridge Place Apartments, Meeker, OK; Project Number: 117-EE023.

Nature of Requirement: Section 891.410 relates to admission of families to projects for elderly or handicapped families that received reservations under section 202 of the Housing Act of 1959 and housing assistance under section 8 of the U.S. Housing Act of 1937. Section 891.410(c) limits occupancy to very low-income elderly persons; that is, households of one or more persons at least one of whom is 62 years of age at the time of initial occupancy.

Granted by: John C. Weicher, Assistant Secretary for Housing—Federal Housing Commissioner.

Date Granted: July 17, 2002.

Reason Waived: The Kansas City Multifamily Hub requested an age waiver for the subject project because the current occupancy level of eligible persons and families does not support successful operation of the projects. This waiver allows the project owner/management agent to rent units to persons between the ages of 55 and 62 years of age with or without disabilities, thus, allowing the owner flexibility in renting up these vacant units. This waiver is in effect for one year from date of approval.

Contact: Beverly J. Miller, Director, Office of Asset Management, Department of Housing and Urban Development, 451 Seventh Street, SW., Room 6160, Washington, DC 20410-7000; telephone: (202) 708-3730.

• Regulation: 24 CFR 891.410(c).

Project/Activity: Piney Grove Apartments, Jasper, AL, Project Number: 062-EE034.

Nature of Requirement: Section 891.410 relates to admission of families to projects for elderly or handicapped families that received reservations under section 202 of the Housing Act of 1959 and housing assistance under section 8 of the U.S. Housing Act of 1937. Section 891.410(c) limits occupancy to very low-income elderly persons; that is, households of one or more persons at least one of whom is 62 years of age at the time of initial occupancy.

Granted by: John C. Weicher, Assistant Secretary for Housing—Federal Housing Commissioner.

Date Granted: July 24, 2002.

Reason Waived: The Jacksonville Multifamily Hub requested permission to waive the age requirements of the subject project to alleviate the occupancy and financial problems at property. The owner/management agent pointed to the income limits in the area as a “root cause” of their problem, stating that many of the elderly applicants fall within the “low-income” limits but do not fall within the “very low-income” bracket. Providing for a waiver of the elderly, handicapped, and very low-income requirements allows the owner to rent to persons 55 years and older and low-income applicants. If the waiver had not been granted, the owner would not have had the flexibility to offer units to persons 55 years and older or low-income applicants, and therefore, would not be able to maintain full occupancy and the project would fail. This waiver is in effect for one year from date of approval.

Contact: Beverly J. Miller, Director, Office of Asset Management, Department of Housing and Urban Development, 451 Seventh Street, SW., Room 6160, Washington, DC 20410-7000; telephone: (202) 708-3730.

• Regulation: 24 CFR 891.410(c).

Project/Activity: Main Creek Villa, Conrath, WI; Project Number: 075-EE071.

Nature of Requirement: Section 891.410 relates to admission of families to projects for elderly or handicapped families that received reservations under section 202 of the Housing Act of 1959 and housing assistance under section 8 of the U.S. Housing Act of 1937. Section 891.410(c) limits occupancy to very low-income elderly persons; that is, households of one or more persons at least one of whom is 62 years of age at the time of initial occupancy.

Granted by: John C. Weicher, Assistant Secretary for Housing—Federal Housing Commissioner.

Date Granted: September 16, 2002.

Reason Waived: The Minneapolis-St. Paul Multifamily Hub requested waiver of the age and income requirements for the subject property. The owner/management agent of the subject project requested permission to waive the elderly and low-income requirements to alleviate the current occupancy and financial problems at the property. The property will be allowed to rent to the non-elderly between the ages of 55 and 62 years and allow the applicants to meet the low-income eligibility requirements. Providing for a waiver to the elderly and low-income restrictions allows the owner additional flexibility to rent vacant units. The owner will have the flexibility to offer units to the non-elderly, low-income applicants, and therefore, will be able to achieve full occupancy and the project will not fail. This waiver is effective for one year from date of approval.

Contact: Beverly J. Miller, Director, Office of Asset Management, Department of Housing and Urban Development, 451 Seventh Street, SW., Room 6160, Washington, DC 20410-7000; telephone: (202) 708-3730.

• Regulation: 24 CFR 891.410(c).

Project/Activity: Lincoln Unity Apartments, West Hamlin, WV; Project Number: 045-EH098.

Nature of Requirement: Section 891.410 relates to admission of families to projects for elderly or handicapped families that received reservations under section 202 of the Housing Act of 1959 and housing assistance under section 8 of the U.S. Housing Act of 1937. Section 891.410(c) limits occupancy to very low-income elderly persons; that is, households of one or more persons at least one of whom is 62 years of age at the time of initial occupancy.

Granted by: John C. Weicher, Assistant Secretary for Housing—Federal Housing Commissioner.

Date Granted: September 20, 2002.

Reason Waived: The Charleston Multifamily Program Center requested indefinite waiver of the elderly and very low-income requirements for the subject property until it reaches 97 percent occupancy. The owner/management agent of the subject project requested permission to waive the elderly and low-income requirements to alleviate the current occupancy problem at the property. The property is located in West Hamlin, West Virginia, and currently has 79 percent occupancy. The market is “soft” in this area and the potential market for persons between the ages of 55 and 62 is good. The property will be allowed to rent to the non-elderly between the ages of 55 and 62 years with or without disabilities, and allow the applicants or families to meet the low-income eligibility requirements. Providing for a waiver to the elderly and low-income restrictions allows the owner additional flexibility to rent vacant units. The owner will have the flexibility to offer units to the non-elderly, low-income, disabled, and handicapped applicants, and therefore, will be able to achieve full occupancy and the project will not fail. This waiver is effective for one year from date of approval.

Contact: Beverly J. Miller, Director, Office of Asset Management, Department of Housing and Urban Development, 451 Seventh Street, SW., Room 6160, Washington, DC 20410-7000; telephone: (202) 708-3730.

• Regulation: 24 CFR 891.410(c).

Project/Activity: Wild Goose Landing Apartments, Oakfield, WI; Project Number: 075-EE051/NP/WAH/L8.

Nature of Requirement: Section 891.410 relates to admission of families to projects for elderly or handicapped families that received reservations under section 202 of the Housing Act of 1959 and housing assistance under section 8 of the U.S. Housing Act of 1937. Section 891.410(c) limits occupancy to very low-income elderly persons; that is, households of one or more persons at least one of whom is 62 years of age at the time of initial occupancy.

Granted by: John C. Weicher, Assistant Secretary for Housing—Federal Housing Commissioner.

Date Granted: September 30, 2002.

Reason Waived: The Minneapolis-St. Paul Multifamily Hub requested a waiver of the income restrictions for the subject project because the current occupancy level of eligible persons and families does not support successful operation of the project. This waiver allows the project owner/management agent to rent units to persons between the ages of 55 years and 62 years, and allows the applicants to meet the low-income eligibility requirement. The owner will have the flexibility to offer units to the non-elderly, low-income applicants, and therefore, will be able to achieve full occupancy and the project will not fail. This waiver is in effect for one year from date of approval.

Contact: Beverly J. Miller, Director, Office of Asset Management, Department of Housing and Urban Development, 451 Seventh Street, SW., Room 6160, Washington, DC 20410-7000; telephone: (202) 708-3730.

III. Regulatory Waivers Granted by the Office of Public and Indian Housing

For further information about the following waivers actions, please see the name of the contact person who immediately follows the description of the waiver granted.

• Regulation: 24 CFR 902.33(a).

Project/Activity: Coolidge Housing Authority, Coolidge, TX; TX228.

Nature of Requirement: Section 902.33(a) establishes the financial reporting requirements for public housing agencies.

Granted by: Michael Liu, Assistant Secretary for Public and Indian Housing.

Date Granted: August 2, 2002.

Reason Waived: The housing authority experienced auditor, accountant, transmission problems, and therefore, requested an extension of the report due date. The request was granted to allow the housing authority to address these problems.

Contact: Judy Wojciechowski, Director, Office of Troubled Agency Recovery, Office of Public and Indian Housing, Department of Housing and Urban Development, 451 Seventh Street, SW., Washington, DC, 20410; telephone: (202) 708-4932, extension 3464.

• Regulation: 24 CFR 902.33(a).

Project/Activity: Housing Authority City of Canyon, Canyon, TX; TX045.

Nature of Requirement: Section 902.33(a) establishes the financial reporting requirements for public housing agencies.

Granted by: Paula O. Blunt, for Michael Liu, Assistant Secretary for Public and Indian Housing.

Date Granted: September 9, 2002.

Reason Waived: The housing authority requested an extension of the reporting deadline due to internal delays as a result of a change in administration at the housing authority. The extension was granted.

Contact: Judy Wojciechowski, Director, Office of Troubled Agency Recovery, Office of Public and Indian Housing, Department of Housing and Urban Development, 451 Seventh Street, SW., Washington, DC 20410; telephone: (202) 708-4932, extension 3464.

• Regulation: 24 CFR 902.33(a).

Project/Activity: Housing Authority of the City of Andrews, Andrews, TX; TX315.

Nature of Requirement: Section 902.33(a) establishes the financial reporting requirements for public housing agencies.

Granted by: Michael Liu, Assistant Secretary for Public and Indian Housing.

Date Granted: September 19 2002.

Reason Waived: The housing authority requested an extension of the report due date because of difficulty in obtaining an accountant, and also computer upgrading problems. The extension was granted.

Contact: Judy Wojciechowski, Director, Office of Troubled Agency Recovery, Office of Public and Indian Housing, Department of Housing and Urban Development, 451 Seventh Street, SW., Washington, DC, 20410; telephone: (202) 708-4932, extension 3464.

• Regulation: 24 CFR 902.63(a).

Project/Activity: Princeville Housing Authority, Princeville, NC: NC169

Nature of Requirement: Section 902.63(a) requires submissions by the public housing agency followed by scoring under the four Public Housing Assessment System (PHAS) indicators.

Granted by: Michael Liu, Assistant Secretary for Public and Indian Housing.

Date Granted: July 2, 2002.

Reason Waived: The housing authority requested a waiver of three of the four indicators due to hurricane damage to its facility. The request was granted requiring an audit submission only.

Contact: Judy Wojciechowski, Director, Office of Troubled Agency Recovery, Office of Public and Indian Housing, Department of Housing and Urban Development, 451 Seventh Street, SW., Washington, DC 20410; telephone: (202) 708-4932, extension 3464.

• Regulation: 24 CFR 902.63(a).

Project/Activity: Habitat Property Management, Chicago, IL: IL802

Nature of Requirement: Section 902.63(a) requires submissions by the public housing agency followed by scoring under the four PHAS indicators.

Granted by: Michael Liu, Assistant Secretary for Public and Indian Housing.

Date Granted: July 18, 2002.

Reason Waived: PHAS scoring requires public housing agencies to be scored in all four indicators to determine an overall score. However, the Habitat Property Management is not a traditional housing authority. This company is an agency that builds units and transfers title to the Chicago Housing Authority. The request was granted to waive three of the four indicators requiring submission of audits.

Contact: Judy Wojciechowski, Director, Office of Troubled Agency Recovery, Office of Public and Indian Housing, Department of Housing and Urban Development, 451 Seventh Street, SW., Washington, DC 20410; telephone: (202) 708-4932, extension 3464.

• Regulation: 24 CFR 982.505(d).

Project/Activity: Housing Authority of the city of Los Angeles, Los Angeles, CA; Housing Choice Voucher Program.

Nature of Requirement: Section 982.505(d) allows a public housing agency (PHA) to approve a higher payment standard within the basic range for a family that includes a person with disabilities as a reasonable accommodation.

Granted by: Michael Liu, Assistant Secretary for Public and Indian Housing.

Date Granted: July 26, 2002.

Reason Waived: Approval of the waiver was granted to allow a housing choice voucher participant with a debilitating disease to remain in his current unit, which rents for an amount that exceeds 120 percent of the fair market rent. Due to the participant's health, it would be an undue hardship for the program participant to seek a unit to lease within the established payment standard amount and relocate.

Contact: Gerald Benoit, Director, Housing Voucher Management and Operations Division, Office of Public Housing Voucher Programs, Office of Public and Indian Housing, Department of Housing and Urban Development, 451 Seventh Street, SW., Room 4210, Washington, DC 20410; telephone: (202) 708-0477.

• Regulation: 24 CFR 982.532 (a)(4).

Project/Activity: Housing and Community Development Corporation of Hawaii (HCDCH), Honolulu, Hawaii; Housing Choice Voucher Program. HCDCH requested a waiver to allow a program participant, who is a person with disabilities, to rent housing from the University of Hawaii as a reasonable accommodation.

Nature of Requirement: Section 982.532(a)(4) defines college dormitories or other school dormitories as types of housing that are ineligible for tenant-based assistance.

Granted by: Michael Liu, Assistant Secretary for Public and Indian Housing.

Date Granted: August 16, 2002.

Reason Waived: Approval of the waiver was granted because the voucher participant needed to live in housing on the college campus for easier access to classes. The voucher participant is dependent on an electric wheelchair for mobility and there is no other affordable housing on or near the University.

Contact: Gerald Benoit, Director, Housing Voucher Management and Operations Division, Office of Housing Voucher Programs, Office of Public and Indian Housing, Department of Housing and Urban Development, 451 Seventh Street, SW., Room 4210, Washington, DC 20410; telephone: (202) 708-0477.

• Regulation: 24 CFR 983.51.

Project/Activity: The Housing Authority of the County of Chester (HACC), Chester, Pennsylvania; Project-based Assistance Program. The HACC requested a waiver of the aforementioned program regulation to allow for the selection of units for project-based assistance that were competitively selected for tax credits, and competitively awarded HOPE VI grant funds without requiring HUD review and approval of a written selection policy, and without advertising for a competitive selection of units under the project-based program. The HACC is the general partner of the entity that owns the development.

Nature of Requirement: Section 983.51 requires HUD review and approval of a written selection policy and advertisement for the competitive selection of units to receive project-based assistance.

Granted by: Michael Liu, Assistant Secretary for Public and Indian Housing.

Date Granted: September 27, 2002.

Reason Waived: The waiver was granted on the basis that the units had already undergone a total of two competitive processes and on the HACC's desire to induce capital contributions from its limited partners to assist in the restructuring of the financing on the project.

Contact: Gerald Benoit, Director, Housing Voucher Management and Operations Division, Office of Housing Voucher Programs, Office of Public and Indian Housing, Department of Housing and Urban Development, 451 Seventh Street, SW., Room 4210, Washington, DC 20410; telephone: (202) 708-0477.

• Regulation: 24 CFR 983.51(a), (b), and 983.56(a) and (c).

Project/Activity: Housing Authority of New Orleans (HANO), New Orleans, Louisiana; Project-based Assistance Program. The HANO requested a waiver of competition requirements under the project-based assistance program and the requirement of HUD field office review of new construction applications. The project is a previous public housing site owned by the HANO. The HANO plans to transform the site into a stable, mixed-income community.

Nature of Requirement: Section 983.51 requires HUD review and approval of a written selection policy and advertisement for the competitive selection of units to receive project-based assistance. Section 983.56 deals with HUD field office review of new construction applications.

Granted by: Michael Liu, Assistant Secretary for Public and Indian Housing.

Date Granted: August 30, 2002.

Reason Waived: The waiver was granted on the basis that the HANO has a substantial interest in the property and the waiver would allow the units to be used as replacement housing in conjunction with HOPE VI program activities to further local revitalization objectives.

Contact: Gerald Benoit, Director, Housing Voucher Management and Operations Division, Office of Housing Voucher Programs, Office of Public and Indian Housing, Department of Housing and Urban Development, 451 Seventh Street, SW., Room 4210, Washington, DC 20410; telephone: (202) 708-0477.

• Regulation: 24 CFR 983.51.

Project/Activity: The High Point Housing Authority (HPHA), High Point, North Carolina; Project-based Assistance Program. The HPHA requested a waiver of competitive selection of owner proposals.

Nature of Requirement: Section 983.51 requires competitive selection of owner proposals in accordance with a housing authority's HUD-approved advertisement and unit selection policy.

Granted by: Michael Liu, Assistant Secretary for Public and Indian Housing.

Date Granted: July 26, 2002.

Reason Waived: Competitive selection was waived since the Springfield Community Development Partners (SCDP) had already gone through two rounds of competitive selection. The HPHA competitively selected the SCDP as its HOPE VI partner to revitalize the former Springfield Townhomes public housing project. In addition, the SCDP was also awarded low-income housing tax credits for the same project through a competitive process conducted by the North Carolina Housing Finance Agency.

Contact: Gerald Benoit, Director, Housing Voucher Management and Operations Division, Office of Housing Voucher Programs, Office of Public and Indian Housing, Department of Housing and Urban Development, 451 Seventh Street, SW., Room 4210, Washington, DC 20410; telephone: (202) 708-0477.

• Regulation: 24 CFR 1000.214.

Project/Activity: The submission of the Indian Housing Plan (IHP) by the Native Village of Tanana (Tanana, AK) for Fiscal Year (FY) 2002 funding made available under the Native American Housing Assistance and Self-Determination Act of 1996 (NAHASDA).

Nature of Requirement: Section 1000.214 establishes a July 1st deadline for the submission of an IHP.

Reason Waived: The Native Village of Tanana stated that the Executive Director was told that the IHP had been prepared and submitted to the Office of Native American Programs (ONAP) by the required deadline. When discovered that the Executive Director had not submitted the IHP, the Executive Director completed and electronically submitted the plan. Had subsistence needs not precluded the Executive Director's presence in the office June 28, 2002, through July 8, 2002, the misrepresentation would have been discovered and corrected.

Granted by: Michael Liu, Assistant Secretary for Public and Indian Housing.

Date Granted: September 27, 2002.

Contact: Deborah Lalancette, Director, Grants Management, Denver Program ONAP, Department of Housing and Urban Development, 1999 Broadway, Suite 3390, Denver, CO 80202; telephone: (303) 675-1625.

• Regulation: 24 CFR 1000.214.

Project/Activity: The submission of the IHP by the Native Village of Tanacross (Tanacross, AK) for FY 2002 funding made available under NAHASDA.

Nature of Requirement: Section 1000.214 establishes a July 1st deadline for the submission of an IHP.

Reason Waived: The Native Village of Tanacross stated, and ONAP believes, that the IHP was mailed prior to the regulatory deadline and the submission was lost in the mail.

Granted by: Michael Liu, Assistant Secretary for Public and Indian Housing.

Date Granted: September 27, 2002.

Contact: Deborah Lalancette, Director, Grants Management, DPONAP, Department of Housing and Urban Development, 1999 Broadway, Suite 3390, Denver, CO 80202; telephone: (303) 675-1625.

• Regulation: Section II subpart E and subpart F of the January 16, 2001, Federal Register Notice, Revisions to PHA Project-Based Assistance (PBA) Program; Initial Guidance.

Project/Activity: The Minneapolis Public Housing Authority (MPHA), Minneapolis, Minnesota; Project-based Assistance Program. The MPHA requested an exception to the initial guidance to permit it to attach PBA to the Phillips Park Initiative that is in a census tract with a poverty rate that exceeds 20 percent. The MPHA also requested an exception to waive the requirement that no more than 25 percent of the dwelling units in any building may be assisted under a housing assistance payments (HAP) contract for PBA except for dwelling units that are specifically made available for elderly families, disabled families and families receiving supportive services for this project.

Nature of Requirement: Section II subpart E of the initial guidance requires that in order to meet the Department's goal of deconcentration and expanding housing and economic opportunities, the projects must be in census tracts with poverty rates of less than 20 percent. Section II subpart F requires that no more than 25 percent of the dwelling units in any building may be assisted under a housing assistance payments (HAP) contract for PBA except for dwelling units that are specifically made available for elderly families, disabled families, and families receiving supportive services.

Granted by: Michael Liu, Assistant Secretary For Public And Indian Housing.

Date Granted: July 26, 2002.

Reason Waived: Approval of the exception for deconcentration was granted since the Phillips Park Initiative is in the Minneapolis Empowerment Zone the goals of which are to open new businesses, create jobs, housing, and new educational and healthcare opportunities. These goals are consistent with the goal of deconcentration and expanding housing and economic opportunities. Approval of the exception for the number of units in a building that may be project-based was granted because the families living in the building will receive supportive services including tenant education, budgeting, parenting skills and will be able to access the Train to Work program that will prepare them for entry-level jobs in the community. These supportive services are consistent with the statute.

Contact: Gerald Benoit, Director, Housing Voucher Management and Operations Division, Office of Housing Voucher Programs, Office of Public and Indian Housing, Department of Housing and Urban Development, 451 Seventh Street, SW., Room 4210, Washington, DC 20410; telephone: (202) 708-0477.

• Regulation: Section II subpart E of the January 16, 2001, Federal Register Notice, Revisions to PHA Project-Based Assistance (PBA) Program; Initial Guidance.

Project/Activity: San Francisco Housing Authority, San Francisco, California; Project-based Assistance Program. The San Francisco Housing Authority requested an exception to the initial guidance to permit it to attach PBA to six projects that are in census tracts with poverty rates that exceed 20 percent.

Nature of Requirement: Section II subpart E of the initial guidance requires that in order to meet the Department's goal of deconcentration and expanding housing and economic opportunities, the projects must be in census tracts with poverty rates of less than 20 percent.

Granted by: Michael Liu, Assistant Secretary for Public and Indian Housing.

Date Granted: July 16, 2002.

Reason Waived: Approval of the exception was granted since one of the projects, the Dudley Hotel was within the boundaries of Rochester's HUD-designated Enterprise Community whose goals of creating jobs, housing, and new educational and healthcare opportunities are consistent with the goal of deconcentration and expanding housing and economic opportunities, and the other five projects (999 Geary Street, 145 Taylor Street, the West Hotel, the Dalt Hotel, and 421 Turk Street) are located within the Tenderloin Neighborhood Revitalization Area designated as such in the City of San Francisco's Consolidated Plan whose goals are also consistent with the statute.

Contact: Gerald Benoit, Director, Housing Voucher Management and Operations Division, Office of Housing Voucher Programs, Office of Public and Indian Housing, Department of Housing and Urban Development, 451 Seventh Street, SW., Room 4210, Washington, DC 20410; telephone: (202) 708-0477.

• Regulation: Section II subpart F of the January 16, 2001, Federal Register Notice, Revisions to PHA Project-Based Assistance (PBA) Program; Initial Guidance and 24 CFR 983.51.

Project/Activity: Fort Wayne Housing Authority (FWHA), Fort Wayne, Indiana; Project-based Assistance Program. FWHA requested an exception to the initial guidance to permit it to attach PBA to units at McMillan Park that exceed the 25 percent cap on the number of units in a building to which PBA can be attached for families receiving supportive services. The FWHA also requested a waiver of competitive selection of owner proposals.

Nature of Requirement: Section II subpart F of the initial guidance requires that unless waived, no more than 25 percent of the dwelling units in any building may be assisted under a housing assistance payments contract for PBA except for dwelling units that are specifically made available for elderly families, disabled families, and families receiving supportive services. Section 983.51 requires competitive selection of owner proposals in accordance with a housing authority's HUD-approved advertisement and unit selection policy.

Granted by: Michael Liu, Assistant Secretary for Public and Indian Housing.

Date Granted: July 5, 2002.

Reason Waived: Approval of the exception was granted because the families living in McMillan Park will participate in the FWHA's Family Self-Sufficiency program and will have access to a Neighborhood Networks Center, after-school tutoring programs for children and adult educational classes. These supportive services are consistent with the statute. Competitive selection was conditionally waived since the FWHA will acquire a 50 percent interest in the general partner and will maintain the project as a housing resource for low-income families. The waiver was conditional based on sale of the property to the FWHA within six months of the approval date.

Contact: Gerald Benoit, Director, Housing Voucher Management and Operations Division, Office of Housing Voucher Programs, Office of Public and Indian Housing, Department of Housing and Urban Development, 451 Seventh Street, SW., Room 4210, Washington, DC 20410; telephone: (202) 708-0477.

• Regulation: Section II subpart F of the January 16, 2001, Federal Register Notice, Revisions to PHA Project-Based Assistance (PBA) Program; Initial Guidance.

Project/Activity: Laurinburg Housing Authority (LHA); Laurinburg, North Carolina; Project-based Assistance Program. Laurinburg Housing Authority requested an exception to the initial guidance to permit it to attach PBA to units in Scottish Glen Apartments that exceed the 25 percent cap on the number of units in a building to which PBA can be attached for families receiving supportive services.

Nature of Requirement: Section II subpart F of the initial guidance requires that unless waived, no more than 25 percent of the dwelling units in any building may be assisted under a HAP contract for PBA except for dwelling units that are specifically made available for elderly families, disabled families, and families receiving supportive services.

Granted by: Michael Liu, Assistant Secretary for Public and Indian Housing.

Date Granted: July 16, 2002.

Reason Waived: Approval of the exception was granted because the families living in Scottish Glen Apartments will receive supportive services through participation in the LHA's Family Self-Sufficiency Program. Services will include: access and resources for health care; case management to coordinate and deliver services; educational opportunities through a variety of local colleges; financial management and homebuyer education; and an array of other programs and services provided by local community organizations.

Contact: Gerald Benoit, Director, Housing Voucher Management and Operations Division, Office of Housing Voucher Programs, Office of Public and Indian Housing, Department of Housing and Urban Development, 451 Seventh Street, SW., Room 4210, Washington, DC 20410; telephone: (202) 708-0477.

• Regulation: Section II subpart F of the January 16, 2001, Federal Register Notice, Revisions to PHA Project-Based Assistance (PBA) Program; Initial Guidance.

Project/Activity: Rochester Housing Authority (RHA), Rochester, New York; Project-Based Assistance Program. RHA requested an exception to the requirement that no more than 25 percent of the dwelling units in any building may be assisted under a HAP contract for PBA except for dwelling units that are specifically made available for elderly families, disabled families, and families receiving supportive services for two buildings owned by the YWCA.

Nature of Requirement: Section II subpart F of the initial guidance requires that no more than 25 percent of the dwelling units in any building may be assisted under a housing assistance payments (HAP) contract for PBA except for dwelling units that are specifically made available for elderly families, disabled families, and families receiving supportive services.

Granted by: Michael Liu, Assistant Secretary for Public and Indian Housing.

Date Granted: September 18, 2002.

Reason Waived: Approval of the exception for the number of units in a building that may be project-based was granted because the families living in the units owned by the YWCA will receive the following services: case management; alcohol and drug evaluation and treatment; mental health services; and linkages to YWCA employment services, financial empowerment workshops; and a nutrition outreach program and child care. These supportive services are consistent with the statute.

Contact: Gerald Benoit, Director, Housing Voucher Management and Operations Division, Office of Housing Voucher Programs, Office of Public and Indian Housing, Department of Housing and Urban Development, 451 Seventh Street, SW., Room 4210, Washington, DC 20410; telephone: (202) 708-0477.

• Regulation: Section II subpart E of the January 16, 2001, Federal Register Notice, Revisions to PHA Project-Based Assistance (PBA) Program; Initial Guidance.

Project/Activity: San Diego Housing Commission, San Diego, California; Project-based Assistance Program. The San Diego Housing Commission requested an exception to the initial guidance to permit it to attach PBA to Bandaar Salaam Apartments that is in a census tract with a poverty rate of 27 percent.

Nature of Requirement: Section II subpart E of the initial guidance requires that in order to meet the Department's goal of deconcentration and expanding housing and economic opportunities, the projects must be in census tracts with poverty rates of less than 20 percent.

Granted by: Michael Liu, Assistant Secretary for Public and Indian Housing.

Date Granted: August 5, 2002.

Reason Waived: Approval of the exception was granted since the project was within the boundaries of one of San Diego's HUD-designated Enterprise Communities whose goals of creating jobs, housing, and new educational and healthcare opportunities are consistent with the goal of deconcentration and expanding housing and economic opportunities.

Contact: Gerald Benoit, Director, Housing Voucher Management and Operations Division, Office of Housing Voucher Programs, Office of Public and Indian Housing, Department of Housing and Urban Development, 451 Seventh Street, SW., Room 4210, Washington, DC 20410; telephone: (202) 708-0477.

• Regulation: Section II subpart E of the January 16, 2001, Federal Register Notice, Revisions to PHA Project-Based Assistance (PBA) Program; Initial Guidance.

Project/Activity: Rental Assistance Corporation, Buffalo, New York; Project-based Assistance Program. The Rental Assistance Corporation requested an exception to the initial guidance to permit it to attach PBA to Frederick Douglass Towers Phase II that is located in a census tract with a poverty rate of 49 percent.

Nature of Requirement: Section II subpart E of the initial guidance requires that in order to meet the Department's goal of deconcentration and expanding housing and economic opportunities, the projects must be in census tracts with poverty rates of less than 20 percent.

Granted by: Michael Liu, Assistant Secretary for Public and Indian Housing.

Date Granted: August 5, 2002.

Reason Waived: Approval of the exception was granted since the project was within the boundaries of a HUD-designated Enterprise Zone whose goals of creating jobs, housing, and new educational and healthcare opportunities are consistent with the goal of deconcentration and expanding housing and economic opportunities.

Contact: Gerald Benoit, Director, Housing Voucher Management and Operations Division, Office of Housing Voucher Programs, Office of Public and Indian Housing, Department of Housing and Urban Development, 451 Seventh Street, SW., Room 4210, Washington, DC 20410; telephone: (202) 708-0477.

[FR Doc. 03-1802 Filed 1-28-03; 8:45 am]

BILLING CODE 4210-32-P